DEPARTMENT OF EDUCATION

Notice of the Rescission of Outdated Guidance Documents

AGENCY: Office of the Secretary, Department of Education.

ACTION: Notice.

SUMMARY: The Secretary announces the guidance documents the Department of Education (Department) is rescinding because they are outdated, after conducting a review of its guidance under Executive Order (E.O.) 13891.

FOR FURTHER INFORMATION CONTACT: Lynn Mahaffie, Department of Education, 400 Maryland Avenue SW, Room 6E-231, Washington, DC 20202. Telephone: (202) 453-7862. Email: Lynn.Mahaffie@ed.gov.

If you use a telecommunications device for the deaf (TDD) or a text telephone (TTY), call the Federal Relay Service (FRS), toll-free, at 1-800-877-8339.

SUPPLEMENTARY INFORMATION: On October 9, 2019, the President issued E.O. 13891 titled “Promoting the Rule of Law Through Improved Agency Guidance Documents.” 84 FR 55235. Section 3(b) of the E.O. requires the Department to “review its guidance documents and, consistent with applicable law, rescind those guidance documents that it determines should no longer be in effect.” This notice notifies the public, including the Department's stakeholders, of the guidance documents the Department rescinds as outdated (e.g., superseded by subsequent statutory amendments or enactments), in accordance with section 3(b) of E.O. 13891. The guidance documents identified as being rescinded in this notice do not include any guidance documents the Department has, is considering, or is planning to rescind through exercising the Department's policy-making discretion (i.e., rescissions based on a change in Department policy or statutory interpretation).

Additionally, section 3(a) of E.O. 13891 requires the Department to develop a guidance portal that contains or links to all of its guidance documents in effect. On February 26, 2020, the Department published a notice in the Federal Register announcing that its guidance portal was operational, in compliance with section 3(a) of the E.O. 85 FR 11056.

Section 4 of E.O. 13891 requires the Department to finalize regulations to set forth processes and procedures for issuing guidance documents. The Department's Spring 2020 Unified Agenda provides that the timetable for these interim final regulations is August 2020. See www.reginfo.gov/public/do/eAgendaViewRule?pubId=202004&RIN=1801-AA22.

The below table lists the guidance documents the Department rescinds, the office within the Department that issued the guidance, the date the guidance was issued, and a link to the guidance (which the Department will continue to make publicly available for historical purposes).

Documents rescinded by the Office of Postsecondary Education are listed in the Appendix to this notice. Those may be located at https://ifap.ed.gov/, by entering the title of the document into the Search function.

Title | Date issued | Link
Office of Elementary and Secondary Education (OESE)
State Grants for Innovative Programs—Title V, Part A, Non-Regulatory Guidance | 8/28/02 | http://www.ed.gov/programs/innovative/titlevguidance2002.doc.
Title I Services to Eligible Private School Children, Non-Regulatory Guidance | 10/17/03 | https://www2.ed.gov/programs/titleiparta/psguidance.doc.
Examples of Calculating Amounts Available for Transfer (Appendix C) | 8/1/04 | Although Appendix C is referenced in the final guidance, Appendix C has been rescinded and is omitted from the final guidance: https://www2.ed.gov/programs/transferability/finalsummary04.doc.
Alternate Achievement Standards for Students with the Most Significant Cognitive Disabilities Non-Regulatory Guidance | 8/1/05 | https://www2.ed.gov/policy/elsec/guid/altguidance.doc.
Improving Data Quality for Title I Standards, Assessments, and Accountability Reporting Guidelines For States, LEAs, and Schools | 4/1/06 | https://www2.ed.gov/policy/elsec/guid/standardsassessment/nclbdataguidance.pdf.
Adjusting Local Educational Agency Allocations to Reflect Revised Fiscal Year 2006 (School Year 2006-2007) Title I, Part A Allocations | 11/1/06 | https://www2.ed.gov/programs/titleiparta/fy2006allocationsguidance.doc.
Letters to Chief State School Officers Regarding States' Good-Faith Efforts in Meeting the Highly Qualified Teachers Goal | 7/23/07 | https://www2.ed.gov/policy/elsec/guid/secletter/070723.html.
Public School Choice Non-Regulatory Guidance | 1/14/09 | https://www2.ed.gov/policy/elsec/guid/schoolchoiceguid.pdf.
Funds Under Title I, Part A of the Elementary and Secondary Education Act of 1965 (ESEA) Made Available Under the American Recovery and Reinvestment Act of 2009 | 3/1/10 | http://www2.ed.gov/policy/gen/leg/recovery/guidance/title-i-rev-201003.doc.
Investing in Innovation Fund (i3) Frequently Asked Questions Addendum | 3/30/10 | http://www2.ed.gov/programs/innovation/faqsaddendum-20100330.pdf.
i3 FAQs Addendum 2 | 4/8/10 | http://www2.ed.gov/programs/innovation/faqsaddendum2-20100408.pdf.
i3 FAQs Addendum 3 | 4/21/10 | http://www2.ed.gov/programs/innovation/faqsaddendum3-20100421.pdf.
i3 FAQs Addendum 4 | 4/30/10 | http://www2.ed.gov/programs/innovation/faqsaddendum4-20100430.pdf.
i3 Guidance and FAQs | 6/18/10 | http://www2.ed.gov/programs/innovation/faqs.pdf.
Teacher Incentive Fund—FAQs For the 2010 Competition and Grant Award | 6/28/10 | http://www2.ed.gov/programs/teacherincentive/faq.html.
Guidance on School Improvement Grants (SIG) under Section 1003(g) of the ESEA | 6/29/10 | https://www2.ed.gov/programs/sif/sigguidance05242010.pdf.
Teacher Incentive Fund—FAQs—Addendum | 7/1/10 | http://www2.ed.gov/programs/teacherincentive/faq.html.
Recipient Reporting Requirements Guidance | 12/3/10 | https://www2.ed.gov/policy/gen/leg/recovery/section-1512.html
Dear Colleague Letter Regarding if a Student Using American Sign Language Is an English learner | 1/27/11 | http://www.nysldstac.org/wp-content/uploads/2013/08/Letter-to-Title-III-Directors-regarding-clarification-to-determine-if-an-ASL-user-is-LEP.pdf.
Enhanced Assessment Grants (EAG)—FAQs for Competition in FY 2011 | 5/13/11 | https://www2.ed.gov/programs/eag/eagfaqs5-2011.doc.
Letter to Chief State School Officers and State Child Welfare Directors on the Fostering Connections Act | 8/25/11 | https://www.ed.gov/sites/default/files/Joint%20Fostering%20Connections%20Letter.pdf
Race to the Top—Early Learning Challenge FAQs (including subsequent updates) | 5/12/12 | https://www2.ed.gov/programs/racetothetop-earlylearningchallenge/faq.html.
EAG—FAQs for Competition in FY 2012 | 5/17/12 | https://www2.ed.gov/programs/eag/eagfaqs4-2012.doc.
Teacher Incentive Fund—FAQs for the FY 2012 Competition (Cohort 4) | 6/8/12 | http://www2.ed.gov/programs/teacherincentive/faq.html.
ESEA Flexibility FAQs | 8/3/12 | https://www2.ed.gov/policy/eseaflex/esea-flexibility-faqs.doc.
Serving Preschool Children Through Title I Non-Regulatory Guidance | 10/1/12 | https://www2.ed.gov/policy/elsec/guid/preschoolguidance2012.pdf.
State and Local Report Cards Under Title I, Part A, Non-Regulatory Guidance | 2/8/13 | https://www2.ed.gov/programs/titleiparta/state_local_report_card_guidance_2-08-2013.pdf.
i3 FAQs Scale-up and Validation Competitions | 6/3/13 | http://www2.ed.gov/programs/innovation/faq.html.
EAG FAQs for Competition in FY 2013 | 6/14/13 | https://www2.ed.gov/programs/eag/eagfaq2013.doc.
i3 FAQs Development Competition | 7/18/13 | http://www2.ed.gov/programs/innovation/faq.html.
Flexibility in Schoolwide Programs | 9/13/13 | https://www2.ed.gov/programs/titleiparta/flexswp091313.pdf.
Turnaround School Leaders (TSL) Program FAQs | 2014 | https://www2.ed.gov/programs/turnaroundschlldr/faq.html.
Addendum #3 to the SIG Guidance | 1/27/14 | https://www2.ed.gov/programs/sif/sigfaq-finalversion.doc.
FY 2015 Ready to Learn Grant Competition FAQs | 4/1/15 | https://www2.ed.gov/programs/rtltv/faq.html.
Letter from the Office of Safe and Healthy Students Director to the Education for Homeless Children and Youths State Coordinators and Title I State Directors | 8/15/15 | https://www2.ed.gov/programs/homeless/homelesscoord0815.pdf.
Peer Review of State Assessment Systems Non-Regulatory Guidance for States | 9/25/15 | https://www2.ed.gov/policy/elsec/guid/assessguid15.pdf.
Dear Colleague Letter regarding ESSA Transition and Implementation | 12/18/15 | https://www2.ed.gov/policy/elsec/leg/essa/transition-dcl.pdf.
Preschool Pay for Success Feasibility Grant FAQs | 2016 | https://oese.ed.gov/offices/office-of-discretionary-grants-support-services/innovation-early-learning/preschool-pay-success-feasibility-grant/faq/.
Promoting Student Resilience Program FAQs | 2016 | https://oese.ed.gov/offices/disaster-recovery-unit/promoting-student-resilience-program/frequently-asked-questions-promoting-student-resilience-program/.
Dear Colleague Letter Inviting States to Request a Limited Waiver of the Speaking and Listening Requirements under ESSA | 3/2/16 | https://www2.ed.gov/admins/lead/account/saa/cssoassessmentltr32016.pdf.
High School Equivalency Program (HEP)-College Assistance Migrant Program (CAMP) Performance Reporting and Evaluation FAQs | 10/1/16 | This guidance was distributed to grantees through a listserv. The guidance does not appear on the Department's website.
Dear Colleague Letter Regarding ESSA Transition for Accountability Systems | 11/29/16 | https://www2.ed.gov/policy/elsec/leg/essa/essadcl-accountability-plus-112916.pdf.
Opportunities and Responsibilities for State and Local Report Cards Under the ESEA, As Amended by the Every Student Succeeds Act (ESSA) | 1/6/17 | https://www2.ed.gov/policy/elsec/leg/essa/essastatereportcard.pdf.
ESSA Consolidated State Plan Guidance | 1/6/17 | https://www2.ed.gov/policy/elsec/leg/essa/essastateplanguidance.pdf.
REAP Program Changes 2017/2018 FAQs | 2/14/17 | https://www2.ed.gov/programs/reaprlisp/reaphangesin2017and2018webinar-questions.pdf.
HEP and CAMP Eligibility FAQs Webinar | 3/24/17 | https://www2.ed.gov/programs/hep/hep-camp/eligibility-faqs-webinarqandadocument.docx.
Office of Career, Technical, and Adult Education (OCTAE)
Responsibilities and Opportunities Created by Title I of the WIA | 5/24/99 | https://www2.ed.gov/policy/sectech/guid/cte/title19911.html#:~:text=The%20foundation%20of%20the%20comprehensive,information%20resources%20they%20need%20to.
Services That Prepare Individuals for Nontraditional Training and Employment and Related Issues | 5/27/99 | https://www2.ed.gov/about/offices/list/ovae/pi/cte/vocnontrad13.html.
Second Jointly Issued Guidance Regarding the Non-Duplication Provision in the WIA | 6/30/99 | https://www2.ed.gov/policy/adulted/guid/jointmemo2.html.
Accountability Systems Development for Perkins | 10/15/99 | The guidance does not appear on the Department's website.
Permissible State Uses of Tech-Prep | 5/19/00 | The guidance does not appear on the Department's website.
The Role of Tech-Prep Education in Preparing America's Future | 6/18/02 | https://www2.ed.gov/policy/sectech/guid/cte/61802memo.html.
Update to Questions and Answers Regarding the Implementation of Perkins—Version 1.0 | 1/9/07 | The guidance does not appear on the Department's website.
Transmittal of the Perkins State Plan Guide (Program Memo and Guide for Submission of State Plans) | 3/12/07 | https://www2.ed.gov/policy/sectech/guid/cte/perkinsiv/stateplanmemo.pdf.
Student Definitions and Measurement Approaches for the Core Indicators of Performance under Perkins | 3/13/07 | https://www2.ed.gov/policy/sectech/guid/cte/perkinsiv/studentdef.doc.
Update to Questions and Answers Regarding the Implementation of Perkins—Version 2.0 | 6/6/07 | https://www2.ed.gov/policy/sectech/guid/cte/perkinsiv/qaver2.doc.
Questions and Answers Regarding the Implementation of Perkins—Version 3.0 | 5/28/09 | https://www2.ed.gov/about/offices/list/ovae/pi/cte/perkins-iv-version3.pdf.
Workforce Innovation and Opportunity Act (WIOA): FAQs, Round 1 | 10/1/14 | http://www2.ed.gov/about/offices/list/ovae/pi/AdultEd/wioa-faqs.pdf.
Use of Carryover Funds Awarded Under the AEFLA, Title II of the Workforce Investment Act (WIA) | 10/24/14 | https://www2.ed.gov/about/offices/list/ovae/pi/AdultEd/program-memo-tydings-amendment.pdf.
Guide for the Development of a State Plan Under the Adult Education and Family Literacy Act (AEFLA) | 12/1/14 | http://www2.ed.gov/about/offices/list/ovae/pi/AdultEd/state-guidance.pdf.
Questions and Answers Regarding the Implementation of Perkins—Version 4.0 | 4/24/15 | The guidance does not appear on the Department's website.
WIOA: FAQs, Round 2 | 5/1/15 | http://www2.ed.gov/about/offices/list/ovae/pi/AdultEd/wioa-aefla-faqs-round-2.pdf.
Program Memorandum on Competition and Award of AEFLA Funds under WIOA | 12/1/15 | https://www2.ed.gov/about/offices/list/ovae/program-memo-15-6-state-competitions.pdf.
WIOA: FAQs—Program Year 2016 Local Infrastructure Agreements | 1/1/16 | https://www2.ed.gov/about/offices/list/ovae/pi/AdultEd/wioa-faq-set2-1-27-2016.pdf.
Program Memorandum Regarding Program Income | 2/1/16 | https://s3.amazonaws.com/PCRN/docs/MemoRegardingProgramIncomeUnderPerkinsIV-2-5-16.pdf.
Program Memorandum on WIOA Requirements for Unified and Combined State Plans | 3/1/16 | https://www2.ed.gov/about/offices/list/ovae/wioa-16-1.pdf.
Establishing Expected Levels of Performance and Negotiating Adjusted Levels of Performance for Program Years | 4/1/16 | https://www2.ed.gov/about/offices/list/ovae/pi/AdultEd/wioa-16-2.pdf.
Dear Colleague Letter on Gender Equity in Career and Technical Education | 6/15/16 | https://www2.ed.gov/about/offices/list/ocr/letters/colleague-201606-title-ix-gender-equity-cte.pdf.
Question and Answers Regarding the Implementation of the Carl D. Perkins Career and Technical Education Act of 2006 (Perkins)—Version 5.0 | 8/5/16 | https://s3.amazonaws.com/PCRN/uploads/SkillsOnPurpose/PerkinsIV_Nonregulatory_Guidance_Q%26As_Version_5.pdf.
Program Memorandum on Clarifications Regarding Competition and Award AEFLA Funds | 10/1/16 | https://www2.ed.gov/about/offices/list/ovae/pi/AdultEd/octae-program-memo-17-1.pdf.
Use of Funds Reserved for Activities under Section 243 of the AEFLA | 3/1/17 | https://www2.ed.gov/about/offices/list/ovae/pi/AdultEd/octae-program-memo-17-5.pdf.
Office of Planning, Evaluation and Policy Development (OPEPD)
Getting America's Students Ready for the 21st Century: Meeting the Technology Literacy Challenge | 6/96 | https://eric.ed.gov/?id=ED398899.
eLearning: Putting a World-Class Education at the Fingertips of All Children | 12/20 | https://eric.ed.gov/?id=ED444604.
Toward A New Golden Age In American Education | 2004 | https://files.eric.ed.gov/fulltext/ED484046.pdf.
Joint Letter with ED and HHS Announcing Passage of the Uninterrupted Scholars Act | 4/24/13 | https://studentprivacy.ed.gov/resources/joint-ferpa-letter-ed-hhs-regarding-uninterrupted-scholars-act.
Cover Letter to the Department's Annual Notices to Superintendents and Chief State School Officers (CSSOs) | 12/15/16 | https://studentprivacy.ed.gov/resources/rescinded-august-2020-cover-letter-department%E2%80%99s-annual-notices-seas-and-leas.
Office for Civil Rights (OCR)
Guidance on Schools' Obligation to Include Elementary and Secondary Students with Disabilities in Statewide Assessment Systems | 9/29/97 | https://www2.ed.gov/about/offices/list/ocr/docs/asses902.html.
Dear Colleague Letter on Title IX Grievance Procedures, Elementary and Secondary Education | 4/26/04 | https://www2.ed.gov/about/offices/list/ocr/responsibilities_ix.html.
Title IX Grievance Procedures, Postsecondary Education | 8/4/04 | https://www2.ed.gov/about/offices/list/ocr/responsibilities_ix_ps.html.
Guidance on Equitable Access to, Participation in, and Administration of Public School Choice under ESEA (as amended by the No Child Left Behind Act) | 1/8/09 | https://www2.ed.gov/about/offices/list/ocr/letters/colleague-20090108.pdf.
Guidance on Obligation of Schools to Designate a Title IX Coordinator | 4/24/15 | Dear Colleague Letter: https://www2.ed.gov/about/offices/list/ocr/letters/colleague-201504-title-ix-coordinators.pdf. Spanish Version: https://www2.ed.gov/about/offices/list/ocr/letters/colleague-201504-title-ix-coordinators-sp.pdf. Letter to Title IX Coordinators: https://www2.ed.gov/about/offices/list/ocr/docs/dcl-title-ix-coordinators-letter-201504.pdf. Title IX Resource Guide: https://www2.ed.gov/about/offices/list/ocr/docs/dcl-title-ix-coordinators-guide-201504.pdf.
Office of Finance and Operations (OFO)
Basic EEO and Prevention of Sexual Harassment Training for New Employees | 9/11/96 | https://www2.ed.gov/about/offices/list/om/onboard/docs/eeo.ppt.
Treasury Offset Program FAQs For U.S. Department of Education Grantees and Payees | 7/1/10 | https://www2.ed.gov/policy/fund/guid/gposbul/gposbul.html.
Key Financial Management Requirements for Discretionary Grants Awarded by the Department of Education | 12/1/14 | https://www2.ed.gov/policy/fund/guid/gposbul/gposbul.html.
FAQs to Assist U.S. Department of Education Grantees To Appropriately Use Federal Funds for Conferences and Meetings | 12/1/14 | https://www2.ed.gov/policy/fund/guid/uniform-guidance/cost-principles.html.
Excessive Cash Drawdown Memorandum | 12/1/14 | https://www2.ed.gov/policy/fund/guid/gposbul/drawdown.html.
Noteworthy Additions or Changes for Select Items of Cost | 6/17/15 | https://www2.ed.gov/policy/fund/guid/uniform-guidance/selectitemsofcost.pdf.
Implementing the Uniform Guidance | 6/17/15 | https://www2.ed.gov/policy/fund/guid/uniform-guidance/overview-resources.html.
The Uniform Guidance Audit Requirements——2 CFR Part 200 Subpart F -PowerPoint | 6/25/15 | https://www2.ed.gov/policy/fund/guid/uniform-guidance/index.html.
Indirect Cost Concerns Under the Uniform Guidance | 9/2/15 | https://www2.ed.gov/policy/fund/guid/uniform-guidance/indirect-costs.html.
The Role of Internal Control, Documenting Internal Control, and Determining Allowability & Use of Funds | 9/23/15 | https://www2.ed.gov/policy/fund/guid/uniform-guidance/internal-controls.html.
Procurement Policies Under the Uniform Guidance | 3/11/16 | https://www2.ed.gov/policy/fund/guid/uniform-guidance/procurement.html.
Recipients of ED Grants and Cooperative Agreements FAQs on Cash Management | 7/1/16 | https://www2.ed.gov/policy/fund/guid/gposbul/cash-management-faqs.pdf.
Questions and Answers Regarding 2 CFR Part 200 | 12/1/16 | https://www2.ed.gov/policy/fund/guid/uniform-guidance/edfaqs1216.pdf.
Manager's Quick Check Assessment of Internal Control | 9/23/15 | https://www2.ed.gov/policy/fund/guid/uniform-guidance/internal-controls.html.

Accessible Format: Individuals with disabilities can obtain this document in an accessible format (such as braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Betsy DeVos,
Secretary of Education.

Appendix

Office of Postsecondary Education (OPE)
Title | Date issued
Announcement of student financial assistance videoconferences to be held in April and May 1995 | 3/1/1995
Expanded information available to the financial aid community on our World Wide Web pages | 2/1/1998
Provides information concerning the Assignment of defaulted Federal Perkins Loans & NDSLs to ED for collection | 9/1/1998
Standards that will be used to review 85/15 and 90/10 eligibility calculations for proprietary schools that include institutional scholarships and loans as revenue | 10/1/1999
Mandatory timely completion of Loan Verification Certificates (LVC) | 2/17/2004
Approval of Loan Discharge Applications | 9/16/2005
Agreements Between Public Institutions of Higher Education and Vocational Rehabilitation Agencies | 11/22/2006
Commitment to use the Financial Aid Shopping Sheet | 8/30/2012
Contact information for the FSA Student Loan Ombudsman | 4/17/2013
Implementation of Financial Aid Shopping Sheet | 1/30/2013
The Office of Postsecondary Education issues this guidance to provide States with information about maintenance of effort requirements and waiver requests under the College Access Challenge Grant program | 1/1/2013
2014-04-18—(GEN-14-09): OMB-Approval of the Financial Disclosure for Reasonable and Affordable Rehabilitation Payments Form | 4/18/2014
Perkins Loan Program—Excess Liquid Capital | 9/29/2015
Campus Policing | 9/8/2016
Clarifies the Department's expectation regarding the accreditation effective date used by accrediting agencies | 6/6/2017
Schools may choose to have 1995-96 Renewal Applications mailed to them instead of to their students | 8/1/1994
This letter announces a workshop, “Electronics: The Wave of the Future,” to be held on November 14-17 in Anaheim, California | 9/1/1994
Changes to the 1995-96 processing system, FAFSA, SAR, and Renewal FAFSA | 9/1/1994
Additional Information Pertaining to 1995-96 Renewal Applications requested through the Department's Electronic Data Exchange (EDE). (Follow-up to 1995-96 Action Letter # 1) | 9/1/1994
Telecommunications services provided under the General Electronic Support system and enrollment procedures for 1995-96 | 10/1/1994
Title IV Institution Code List of Participating Institutions for 95-96 Award Year | 12/1/1994
This letter provides information on Tentative 1995-96 Funding Levels for the Campus-Based Programs | 1/1/1995
This letter provides information regarding changes in the 1996-97 FISAP for the Federal Perkins Loan, FSEOG, and FWS Programs | 1/1/1995
This letter provides procedures for submitting a request for a waiver of the 1994-95 FWS Community Service expenditure requirement | 1/1/1995
This letter provides information regarding your institution's final authorization letter for funding under the campus-based programs for the 1995-96 award year | 3/1/1995
This letter establishes the deadlines for schools to begin submitting data to the NSLDS and for schools who have not already done so to submit the NSLDS Data Provider Setup Form and, if applicable, Servicer Delegation Letter | 4/1/1995
This letter establishes the deadlines for schools to begin submitting data to the National Student Loan Data System | 4/1/1995
FERPA Changes | 5/1/1995
Close-out of 1993-94 awards for the FWS, Federal Perkins Loan, and/or FSEOG programs | 6/1/1995
Transmittal letter for Amendments to the 1994-95 National Direct Student Loan and Federal Perkins Loan Programs Directory of Designated Low-Income Schools for Teacher Cancellation Benefits | 6/1/1995
Safeguard Activity Report for the Federal Perkins Loan Program | 6/1/1995
Transmittal letter for the 1996-97 Electronic FISAP diskette package | 7/1/1995
Release of Campus-Based Funds and MANDATORY FWS Community Service Reporting Requirements | 6/1/1995
This letter provides information concerning the ASSIGNMENT of Federal Perkins Loans and National Direct (or Defense) Student Loans (NDSLs) in default to ED for collection | 6/1/1995
This letter provides information concerning the ASSIGNMENT of Federal Perkins Loans and National Direct (or Defense) Student Loans (NDSLs) in default to the U.S. Department of Education (ED) for collection | 6/1/1995
The Federal Perkins Loan Program Expanded Lending Option (ELO) and an agreement to participate in the ELO | 7/1/1995
Revised Perkins Loan Program Assignment Form, ED553 | 7/1/1995
This letter accompanies the 1993-94 Federal Perkins Loan Service Cancellations Payment Letter | 8/1/1995
This letter accompanies the 1993-94 Federal Perkins Loan Service Cancellations Payment Letter | 8/1/1995
Use of State scholarships and grants as the non-Federal share of Federal Supplemental Educational Opportunity Grant awards | 8/1/1995
This letter is a reminder of the 1996-97 Electronic FISAP Mailing in July | 8/1/1995
Correction pages for the Federal Perkins Loan Program Assignment Submission Procedures in CB-95-13 | 9/1/1995
This letter provides procedures for submitting a request for a waiver of the 1995-96 FWS community service expenditure requirement | 9/1/1995
Cover letter for Directory of Designated Low-Income Schools for Teacher Cancellation Benefits for the Federal Perkins Loan and National Direct Student Loan Programs | 10/1/1995
This letter accompanies the second 1993-94 Federal Perkins Loan Service Cancellations Payment Letter | 11/1/1995
Cover letter for 1996-97 FISAP Edit/Verification Process | 11/1/1995
This letter provides information to postsecondary institutions and to guaranty agencies and lenders in the Federal Family Education Loan Program (FFELP) to assist students and institutions in areas designated as natural disaster areas due to the October floods in Texas. The guidance offered in this letter is similar to that provided after the floods in the Southeast earlier this year | 1/1/1995
Guidance for helping Title IV participants affected by the recent May 1995 floods in Illinois, Louisiana, Mississippi and Missouri | 7/1/1995
Guidance for helping Title IV participants affected by Hurricane Marilyn in the Commonwealth of Puerto Rico and the U.S. Virgin Islands and Hurricane Opal in Florida, Alabama, Georgia and North Carolina | 11/1/1995
This letter describes the telecommunications services provided to state and non-state guarantee agencies under the General Electronic Support (GES) system and invites new users to become enrolled in these services. Enrollment will be carried forward each year unless the agency calls to cancel the service | 1/1/1995
This letter transmits the U.S. Department of Education's Audit Guide, Compliance Audits (Attestation Engagements) of the Federal Family Education Loan Program to Participating Lenders | 3/1/1995
Interim Reporting Instructions For The Guaranty Agency Quarterly/Annual Report (ED Form 1130) | 3/1/1995
Limitations on lending by schools and prohibition on inducements to schools by lenders must be observed | 3/1/1995
This letter provides guidance relating to the filing of the Lender's Interest and Special Allowance Request and Report (ED Form 799) | 6/1/1995
Last Submission Date for Default Reinsurance Requests for FY 1995 | 8/1/1995
Extension for completion of lender compliance audits | 9/1/1995
Suspension of Default Reinsurance Claim Payments Due to Non-Receipt of September 1995 Quarterly Report | 10/1/1995
Guaranty agency retention of payoff amounts of defaulted loans consolidated under the Federal Consolidation Loan Program | 11/1/1995
This letter provides information to postsecondary institutions and to guaranty agencies and lenders in the Federal Family Education Loan Program (FFELP) to assist students and institutions in areas designated as natural disaster areas due to the October floods in Texas. The guidance offered in this letter is similar to that provided after the floods in the Southeast earlier this year | 1/1/1995
1995-96 Institution Applicant Data Service for Federal Title IV Student Aid Programs | 1/1/1995
1995-96 State Agency Applicant Data Service for Federal Title IV Student Aid Programs | 1/1/1995
Simplification of our Federal student aid regulations and administrative processes | 1/1/1995
Announcement of Student Financial Assistance videoconferences to be held in early 1995 | 1/1/1995
Conference support for electronic initiatives | 1/1/1995
Distribution of the 1995 Winter Training Calendar | 1/1/1995
Cumulative List of Student Financial Assistance Programs Mailings for the Period January 1, 1994 through December 31, 1994 | 1/1/1995
Transmitting A Guide to 1995-96 SARs and ISIRs | 2/1/1995
Distribution of the 1995-96 Spanish booklet on ED's student aid programs: “Ayuda Federal Para Estudiantes” | 2/1/1995
To inform postsecondary educational institutions how to report ownership or control by, contracts with, or gifts from, foreign sources | 2/1/1995
To inform postsecondary educational institutions how and when to report information regarding third party servicers | 2/1/1995
Cover letter for Chapter 2 of 1994-95 Federal Student Financial Aid Handbook | 3/1/1995
Errata to the 1995-96 Institution Applicant Data Service for Federal Title IV Student Aid Programs (GEN-95-2) | 3/1/1995
This letter provides information regarding the NSLDS to schools participating in Title IV aid programs | 3/1/1995
Cover letter for Chapter 3 of 1994-95 Federal Student Financial Aid Handbook | 3/1/1995
1995-96 Verification Changes; Updated Verification Worksheets; Signature Requirement Chart | 4/1/1995
Clarification of the methods by which a student may apply for Federal student aid | 4/1/1995
Clarification concerning institutional refunds to students | 4/1/1995
Announcement of Change in Topic of May Student Financial Assistance Videoconference | 5/1/1995
Requests review and correction of names and addresses used in the student aid mailing list | 5/1/1995
Announcement of June 29 Student Financial Assistance Videoconference | 5/1/1995
Implementation of the 85 percent rule to determine eligibility for Title IV student assistance programs | 5/1/1995
FY 1993 Cohort Default Rate | 6/1/1995
1996-97 Application for Participation in the William D. Ford Federal Direct Loan Program sent to Chief Fiscal Officers at eligible non-participating institutions | 5/1/1995
1996-97 Application for Participation in the William D. Ford Federal Direct Loan Program sent only to eligible non-participating school's Financial Aid Officers | 5/1/1995
Invitation to schools to submit proposals to become experimental sites for the purpose of testing alternative methods of administering Title IV student aid programs | 6/1/1995
Announcement of July 12 Student Financial Assistance Videoconference | 6/1/1995
This letter announces a nationwide series of Fiscal Officer Training Workshops in 1995 | 6/1/1995
Cover letter for 1995-96 Federal Student Financial Aid Handbook | 6/1/1995
Distribution of The Verification Guide, 1995-96 | 6/1/1995
Announcement of October 19 NSLDS SSCR Process Videoconference | 7/1/1995
Guidance for helping Title IV participants affected by the recent May 1995 floods in Illinois, Louisiana, Mississippi and Missouri | 7/1/1995
Cumulative List of Student Financial Assistance Programs Mailings for the Period January 1, 1995 through June 30, 1995 | 8/1/1995
This letter advises institutions of the recent court decision regarding the regulations dealing with the relationship between clock hours and credit hours, and of the steps that affected institutions must take to come into compliance with these regulations | 8/1/1995
Announcement of September 14 Student Financial Assistance Videoconference | 8/1/1995
This Action Letter introduces the 1995-96 FAFSA EXPRESS, a financial aid software package that allows applicants to complete and submit an electronic Free Application for Federal Student Aid using a personal computer equipped with a modem | 8/1/1995
How to access Host Site listings for October 19 Videoconference: “SSCR: The New Wave Process.” | 9/1/1995
Announcement of November 9 Student Financial Assistance Videoconference | 9/1/1995
This letter gives information and schedules for the 1996-97 Renewal FAFSA, which institutions may request through the Department's Electronic Data Exchange (EDE), beginning Oct. 9-Nov. 10, 1995 | 10/1/1995
Distribution of the 1995 Fall Training Calendar | 10/1/1995
Availability of The Blue Book | 10/1/1995
This letter announces two workshops, “EDE: Your Gateway to the Future,” to be held on November 28-30 in San Francisco, California and December 11-13 in Orlando, Florida | 10/1/1995
Guidance for helping Title IV participants affected by Hurricane Marilyn in the Commonwealth of Puerto Rico and the U.S. Virgin Islands and Hurricane Opal in Florida, Alabama, Georgia and North Carolina | 11/1/1995
The Title IV School Code List of Participating Institutions for the 1996-97 Award Year | 10/1/1995
This Action Letter introduces a Windows version of EDExpress, the software designed to help institutions manage student aid data | 10/1/1995
This letter announces the Title IV Update Training to be conducted in the spring of 1996 | 11/1/1995
This letter describes the Title IV Wide Area Network (WAN) services, the receipt of Institutional Student Information Records (ISIRs) through the Electronic Data Exchange (EDE) or the Applicant Data Service (but NOT both), and applicable enrollment procedures | 11/1/1995
This Action Letter describes changes to the 1996-97 application processing system, the FAFSA, the Renewal FAFSA, the SAR, and the ISIR | 12/1/1995
This letter provides information to postsecondary institutions and to guaranty agencies and lenders in the Federal Family Education Loan Program (FFELP) to assist students and institutions in areas designated as natural disaster areas due to the October floods in Texas. The guidance offered in this letter is similar to that provided after the floods in the Southeast earlier this year | 1/1/1995
U.S. Department of Education's Audit Guide | 3/1/1995
This letter provides information regarding the NSLDS to lenders participating in the FFEL Program | 3/1/1995
This letter provides guidance relating to the filing of the Lender's Interest and Special Allowance Request and Report (ED Form 799) | 6/1/1995
This letter provides guidance relating to the filing of the Lender's Interest and Special Allowance Request and Report (ED Form 799) | 6/1/1995
Guidance for helping Title IV participants affected by the recent May 1995 floods in Illinois, Louisiana, Mississippi and Missouri | 9/7/1995
Extension for completion of lender compliance audits | 9/1/1995
This letter contains information about the publication of the FY 1993 cohort default rates for originating lenders, holders, and guaranty agencies participating in the FFEL Program, as mandated by the Higher Education Act of 1992 | 11/1/1995
Guidance for helping Title IV participants affected by Hurricane Marilyn in the Commonwealth of Puerto Rico and the U.S. Virgin Islands and Hurricane Opal in Florida, Alabama, Georgia and North Carolina | 1/11/1995
This letter contains the 1995-96 Federal Pell Grant Program payment and disbursement schedules | 1/1/1995
This letter provides information concerning your initial 1995-96 Federal Pell Grant Statement of Account and Institutional Payment Summary | 5/1/1995
Informational Package on Ford FDLP, sent to Chief Fiscal Officers | 6/1/1995
Informational Package on Ford FDLP, sent to FAAs | 6/1/1995
Procedures for 1994-95 Federal Pell Grant account adjustments after the September 30, 1995 submission deadline | 10/1/1995
This letter provides additional information on the Federal Pell Grant Eligibility Flag to institutions participating in the 1995-96 Institution Applicant Data Service. It amends 1995-96 Action Letter #7 (GEN-95-2) | 10/1/1995
Limitations on lending by schools and prohibition on inducements to schools by lenders must be observed | 3/1/1995
Guidance for helping Title IV participants affected by Hurricane Marilyn in the Commonwealth of Puerto Rico and the U.S. Virgin Islands and Hurricane Opal in Florida, Alabama, Georgia and North Carolina | 1/11/1995
This letter describes the telecommunications services provided to state and non-state guarantee agencies under the General Electronic Support (GES) system and invites new users to become enrolled in these services. Enrollment will be carried forward each year unless the agency calls to cancel the service | 1/1/1995
This letter conveys the application that each participating state must submit to receive fiscal year 1995 funds for the SSIG Program. | 3/1/1995
Fiscal Year 1994 (1994-95 award year) State Student Incentive Grant (SSIG) Program Performance Report (ED Form 1288-1) | 8/1/1995
This letter describes the telecommunications services provided to State and Non-state Guaranty Agencies under the Title IV Wide Area Network (WAN) system, the receipt of Institutional Student Information Records (ISIRs) through EDE or the Applicant Data Service (but not both), and applicable enrollment procedures | 11/1/1995
Direct Loan List of Publications | 7/1/1995
Describes a mailing list change to the Application Ordering System (AOS) for 1996-97 FAFSAs and Student Guides | 8/1/1995
Developing and implementing a comprehensive prevention policy for campus violence against women | 9/6/1996
Announcement of October 17 Student Financial Assistance Videoconference | 1/9/1996
Distribution of the 1996 Fall Training Calendar | 1/9/1996
This letter announces the 1997-98 Title IV Training to be conducted in early 1997, lists the sites and dates for the workshops, and explains registration procedures | 1/12/1996
Announcement of “Direct Loan Update '96” videoconference | 5/1/1996
This letter announces and describes a training series on EDExpress, and lists the sites and dates for the workshops | 8/1/1996
Announcing a new way to order the 1997-98 version of the Free Application for Federal Student Aid and the Student Guide. . . 1-800-284-2788 | 9/1/1996
This letter provides information on Tentative 1996-97 Funding Levels for the Campus-Based Programs | 1/1/1996
The Federal Perkins Loan Program-Expanded Lending Option (ELO) and an agreement to participate in the ELO | 6/1/1996
Release of Campus-Based Funds and Request for Supplemental Federal Work-Study (FWS) Funds | 6/1/1996
Close-out of 1994-95 awards for the Federal Work- Study (FWS), Federal Perkins Loan, and/or Federal Supplemental Educational Opportunity Grant (FSEOG) programs | 6/1/1996
Transmittal letter for the 1997-98 Electronic FISAP diskette package | 7/1/1996
This letter accompanies the 1994-95 Federal Perkins Loan Service Cancellations Payment Letter | 7/1/1996
Safeguard Activity Report for the Federal Perkins Loan Program | 7/1/1996
Use of State scholarships and grants as the non-Federal share of Federal Supplemental Educational Opportunity Grant awards | 8/1/1996
This letter provides procedures for submitting a request for a waiver of the 1996-97 FWS community service expenditure requirement | 9/1/1996
This letter is a reminder of the 1997-98 Electronic FISAP Mailing in July | 9/1/1996
This letter provides information regarding supplemental funding under the campus-based programs for the 1996-97 award year | 9/1/1996
Submission of Campus-Based Reallocation Form (E40-4P) | 1/1/1996
Release of 1995-96 Unexpended awards for the Federal Work-Study (FWS), Federal Perkins Loan, and/or Federal Supplemental Educational Opportunity Grant (FSEOG) Programs | 9/1/1996
Cover letter for 1997-98 FISAP Edit/Verification Process | 11/1/1996
The impact of the new Federal minimum wage on the Federal Work-Study Program | 11/1/1996
This letter contains important information regarding 1996-97 Campus-Based Program funding | 2/1/1996
Changes in the 1997-98 FISAP for the Federal Perkins Loan, Federal Supplemental Educational Opportunity Grant (FSEOG), and Federal Work-Study (FWS) Programs | 2/1/1996
In late July, institutions will automatically receive an Electronic FISAP Software package with 3 1/2″ high density diskettes | 5/1/1996
Information regarding your institution's final authorization letter for funding under the campus-based programs for the 1996-97 award year | 5/1/1996
Transmittal letter for Amendments to the 1995-96 Federal Perkins Loan and National Direct Student Loan Programs Directory of Designated Low-Income Schools for Teacher Cancellation Benefits | 5/1/1996
This letter provides information about redesigned Federal Perkins Loan and National Direct Student Loan (NDSL) promissory notes | 5/1/1996
This letter provides information on a preliminary estimate of your institution's 1997-98 Federal Work-Study funding. WE ARE SENDING YOU THIS LETTER ALONG WITH THE FISAP EDIT/VERIFICATION MATERIALS FOR 1997-98 | 11/1/1996
Guidance for helping Title IV participants affected by flooding in Idaho, Maryland, New York, Ohio, Oregon, Pennsylvania, Vermont, Virginia, Washington, and West Virginia | 1/4/1996
This letter contains information about the Guaranty Agency Quarterly/Annual Report (ED Form 1130) | 3/1/1996
Last Submission Date for Default Reinsurance Requests for FY 1996 | 8/1/1996
This letter describes the implementation of the Student Status Confirmation Report function of the National Student Loan Data System | 9/1/1996
Guidance for helping Title IV participants affected by Hurricane Fran in Maryland, North Carolina, Pennsylvania, Virginia, and West Virginia and Hurricane Hortense in Puerto Rico | 1/9/1996
This letter provides an initial draft of the 1997-98 Institutional Student Information Record (ISIR) layout and description | 10/1/1996
Suspension of Default Reinsurance Claim Payments Due to Non-Receipt of September 1996 Quarterly Report | 10/1/1996
Extension of lender audit requirement deadline | 11/1/1996
Distribution of the 1996 Winter Training Calendar | 1/2/1996
1996-97 release of our FAFSA Express software | 2/1/1996
This letter describes the 1996-97 Title IV Update Training and the Direct Loan Training for new schools to be conducted in spring 1996, and lists the sites and dates for the workshops | 1/1/1996
This letter references an Advance Notice of Proposed Rulemaking that was recently published in the Federal Register regarding a new draft proposal for improved oversight in the Federal student aid programs | 1/1/1996
Student Status Confirmation Report (SSCR) User's Guide | 2/1/1996
Transmitting A Guide to 1996-97 SARs and ISIRs | 3/1/1996
Incorporation of the Student Status Confirmation Report (SSCR) into the NSLDS to centralize and fully automate the enrollment verification process | 3/1/1996
This letter describes the Title IV Wide Area Network (WAN) services, the receipt of Institutional Student Information Records (ISIRs) through the Electronic Data Exchange (EDE) or the Applicant Data Service (but not both), the National Student Loan Data System (NSLDS), and applicable enrollment procedures. This letter is a replacement of Action Letter #4 (GEN-95-53) dated November 1995 for enrollment to the Title IV WAN | 3/1/1996
Errata and replacement pages for the 1995-96 FSFA Handbook | 3/1/1996
Guidance for helping Title IV participants affected by flooding in Idaho, Maryland, New York, Ohio, Oregon, Pennsylvania, Vermont, Virginia, Washington, and West Virginia | 1/4/1996
This letter provides an overview of the regulatory provisions, and guidance to institutions on how to receive technical assistance in administering the campus security regulations, and the Department's enforcement policy regarding them | 5/1/1996
SFAP Customer Support Branch Inquiry Service. Your direct help line for questions and information on administering the Title IV Student Financial Assistance Programs at your institution. Call 1-800-4ED-SFAP (1-800-433-7327) | 7/1/1996
This letter announces the availability of the National Student Loan Data System (NSLDS) to meet the regulatory requirements for obtaining financial aid transcript (FAT) information for purposes of determining student eligibility for Federal Title IV student assistance | 7/1/1996
This letter announces two U.S. Department of Education conferences entitled, “Electronics: Riding the Road to Success,” to be held on November 12-14 in Lake Tahoe, Nevada and December 8-10 in Atlanta, Georgia | 1/9/1996
This letter gives information and schedules for institutions that wish to have their students receive the 1997-98 Renewal Free Application for Federal Student Aid (Renewal FAFSA) | 9/1/1996
This letter describes the implementation of the Student Status Confirmation Report function of the National Student Loan Data System | 9/1/1996
Guidance for helping Title IV participants affected by Hurricane Fran in Maryland, North Carolina, Pennsylvania, Virginia, and West Virginia and Hurricane Hortense in Puerto Rico | 1/9/1996
This letter provides an initial draft of the 1997-98 Institutional Student Information Record (ISIR) layout and description | 10/1/1996
This letter describes Title IV Wide Area Network (TIV WAN or Title IV WAN) services, enhancements for the 1997-98 award year, enrollment procedures, access to the National Student Loan Data System (NSLDS), and receiving Institutional Student Information Records (ISIRs) through the Electronic Data Exchange (EDE) OR the Institution Applicant Data Service (but not through both) | 11/1/1996
Department of Education to Hold Regional Meetings in December for Reauthorization of the Higher Education Act | 11/1/1996
Changes and enhancements to the 1997-98 application processing system | 11/1/1996
Guidance for helping Title IV participants affected by flooding in Idaho, Maryland, New York, Ohio, Oregon, Pennsylvania, Vermont, Virginia, Washington, and West Virginia | 1/4/1996
Extension of lender audit requirement deadline | 6/1/1996
This letter describes the implementation of the Student Status Confirmation Report function of the National Student Loan Data System | 9/1/1996
Guidance for helping Title IV participants affected by Hurricane Fran in Maryland, North Carolina, Pennsylvania, Virginia, and West Virginia and Hurricane Hortense in Puerto Rico | 1/9/1996
This letter contains information about the publication of the Fiscal Year (FY) 1994 cohort default rates for originating lenders, holders, and guaranty agencies participating in the Federal Family Education Loan (FFEL) Program, as mandated by the Higher Education Act of 1965, as amended | 12/1/1996
Extension of lender audit requirement deadline | 11/1/1996
This letter contains the 1996-97 Federal Pell Grant Program payment and disbursement schedules | 2/1/1996
This letter contains the REVISED 1996-97 Federal Pell Grant Program payment and disbursement schedules | 5/1/1996
This letter provides information regarding the provision in the Department's Fiscal Year 1996 Appropriation Act that precludes a student from receiving a Federal Pell Grant for the 1996-97 award year, if the student's school is ineligible to participate in the Federal Family Education Loan Program or the William D. Ford Federal Direct Loan Program as a result of cohort default rates | 8/1/1996
1996-10-01—(P-96-04) Procedures for 1995-96 Federal Pell Grant account adjustments after the SEPTEMBER 30, 1996 submission deadline | 10/1/1996
1996-97 release of our FAFSA Express software | 2/1/1996
This letter conveys the application that each participating State must submit to receive fiscal year 1996 funds for the State Student Incentive Grant (SSIG) Program | 5/1/1996
Fiscal Year 1995 (1995-96 award year) State Student Incentive Grant (SSIG) Program Performance Report (ED Form 1288-1) | 8/1/1996
Announcement of February 13 Student Financial Assistance Videoconference | 1/1/1997
This letter describes a training series on the 1997-98 EDExpress for Windows application processing software, and lists the sites and dates for the workshops | 2/1/1997
Advertising the U.S. Department of Education's New FAFSA Express Software and Poster | 3/1/1997
To provide general information concerning the forthcoming changes in Title IV program numbers used by participating institutions of postsecondary education. Publication Reference: Section 487b, Higher Education Act of 1965, as amended in 1992, P.L. 102-325 [20 U.S.C. 1094b] | 3/1/1997
Distribution of the 1997 Spring Training Calendar | 3/1/1997
This letter will only be posted electronically. It will not be mailed to institutions | 4/1/1997
Title IV Single Identifier Initiative U.S. Department of Education Washington, D.C. 20202-5132—To Financial Aid Administrator | 6/1/1997
Distribution of the 1997 Fall Training Calendar | 8/1/1997
Distribution of the FAFSA on the Web poster and instructions for ordering FAFSA on the Web brochures | 8/2/1997
This letter describes a nationwide series of Fiscal Officer Training Workshops and lists the sites, dates, and registration procedures | 9/1/1997
Announcement of October 16 Student Financial Assistance Videoconference | 9/1/1997
Invitation to order bulk quantities of the following 1998-99 student aid application materials: The Free Application for Federal Student Aid (FAFSA) | 9/1/1997
Electronic Aid Office Training | 9/1/1997
This letter announces a series of Electronic Aid Office workshops to be held February through September l998; lists the contents, sites and dates of the workshops; and explains registration procedures | 12/1/1997
Changes in the 1998-99 FISAP for the Federal Perkins Loan, FSEOG, and FWS Programs | 2/1/1997
Information regarding your institution's final authorization letter for funding under the campus-based programs for the 1997-98 award year | 3/1/1997
This letter provides procedures for submitting a request for a waiver of the 1997-98 FWS community service expenditure requirement | 5/1/1997
This letter provides information on the Application for Additional Allocation of Federal Work-Study Funds for Fiscal Year 1997 | 5/1/1997
Information regarding the Job Location and Development Program under the Federal Work-Study programs | 5/1/1997
Safeguard Activity Report for the Federal Perkins Loan Program | 6/1/1997
Release of Campus-Based Funds and Request for Supplemental FWS Funds | 6/1/1997
The Federal Perkins Loan Program-Expanded Lending Option (ELO) and an agreement to participate in the ELO | 6/1/1997
Transmittal letter for the 1998-99 Electronic FISAP diskette package | 6/1/1997
Close-out of 1995-96 awards for the FWS, Federal Perkins Loan, and/or FSEOG programs | 7/1/1997
This letter accompanies the supplemental awards issued in response to the Application for Additional Allocation of FWS Funds for Fiscal Year 1997 | 7/1/1997
Information regarding the FWS Program and its community service aspects, including reading tutors of children | 7/1/1997
This letter accompanies the 1995-96 Federal Perkins Loan Service Cancellations Payment Letter | 8/1/1997
Use of State scholarships and grants as the non-Federal share of FSEOG awards | 8/1/1997
This letter provides information regarding supplemental funding under the Campus-Based Programs for the 1997-98 award year | 9/1/1997
Cover letter for 1998-99 FISAP Edit/Verification Process | 11/1/1997
Guidance for guaranty agencies concerning the recent floods in California, Idaho, and Nevada. This guidance is different than the Department's previous guidance for helping borrowers who live in natural disaster areas | 1/1/1997
Updated listings of declared disaster areas for recent floods in California, Idaho, Nevada, and Washington | 1/1/1997
Declared disaster areas for recent flooding in Oregon | 1/1/1997
Additional disaster areas for recent weather-related problems in Washington | 2/1/1997
Declared disaster areas for recent storm damage in Arkansas | 3/1/1997
Declared disaster areas for recent flooding in Ohio and Kentucky | 3/1/1997
Declared disaster areas for recent tornadoes in Arkansas, and flooding in Indiana, Kentucky, Ohio, Tennessee, and West Virginia | 3/1/1997
Declared disaster areas for recent tornadoes in Arkansas, and flooding in Illinois, Indiana, Kentucky, Ohio, Tennessee, and West Virginia | 3/1/1997
Declared disaster areas for recent tornadoes in Arkansas, and flooding in Illinois, Indiana, Kentucky, Ohio, Tennessee, and West Virginia | 3/1/1997
Declared disaster areas for recent tornadoes in Tennessee | 4/1/1997
Declared disaster areas for recent floods in North Dakota and South Dakota | 4/1/1997
Declared disaster areas for recent floods in Minnesota | 4/1/1997
Declared disaster area for recent flooding in Arkansas | 4/1/1997
Additional disaster areas declared for recent floods in Minnesota | 4/1/1997
Liberalized forbearance policy for parts of North Dakota that have been severely impacted by recent flooding | 4/1/1997
Update on forbearance policy for Minnesota flooding | 5/1/1997
Disaster areas declared for storm damage and flooding in Michigan, Texas, and Wisconsin | 7/1/1997
Disaster areas declared for storm damage and flooding in Vermont | 7/1/1997
Disaster areas declared for storm damage and flooding in Alabama and Colorado | 8/1/1997
Disaster areas declared for storm damage and flooding in Minnesota | 8/1/1997
Storm damage and flooding in Illinois | 9/1/1997
Storm damage and flooding in New Jersey | 9/1/1997
Typhoon Keith in the Northern Mariana Islands | 12/1/1997
Typhoon Paka in Guam | 12/1/1997
This letter describes the telecommunications services provided to State and Non-state Guaranty Agencies under the Title IV WAN services, the receipt of ISIRs through the EDE or the Institution Applicant Data Service (but NOT both), and applicable enrollment procedures | 3/1/1997
Guidance for institutions of higher education, guaranty agencies, and lenders concerning the recent flooding in North Dakota, South Dakota, and Minnesota | 5/1/1997
This letter provides guidance concerning closed school loan discharges for borrowers who attended certain correspondence schools | 7/1/1997
Last Submission Date for Default Reinsurance Requests for FY 1997 | 7/1/1997
Suspension of Default Reinsurance Claim Payments Due to Non-Receipt of September 1997 Quarterly/Annual Report | 10/1/1997
Revised Federal Default Consolidation Loan Payoff Report and Instructions | 10/1/1997
Extension of Guaranty Agency Claims and Collections Report (ED Form 1189) | 11/1/1997
This letter Transmits a Guide to 1997-1998 SARs and ISIRs | 2/1/1997
Enclosed is a calendar setting forth some of the significant products, activities, and services that you can expect from us in 1997, and some of the milestones we expect to achieve | 4/1/1997
Guidance for institutions of higher education, guaranty agencies, and lenders concerning the recent flooding in North Dakota, South Dakota, and Minnesota | 5/1/1997
Information concerning the restructuring of the Institutional Participation and Oversight Service | 6/1/1997
How to report changes to the information you provided on your Application for Approval to Participate in Federal Student Financial Aid Programs | 8/1/1997
This letter announces three U.S. Department of Education conferences entitled, “A Second Decade of Partnership Through Electronics” to be held in St. Paul, MN November 4-6; Seattle, WA November 17-19; and Boston, MA December 16-18 | 8/1/1997
This letter announces a conference for Third Party Servicers sponsored by the U.S. Department of Education on October 9-10, 1997, in Washington, DC. NOTE TO SCHOOLS: If you are using a Third Party Servicer, please forward this letter to them | 8/1/1997
UPDATE ON THE SSCR PROCESS OF THE NSLDS: Describes a series of letters that will be sent to institutions in connection with the SSCR process | 8/1/1997
This letter provides information and schedules for institutions that wish to have their students receive the 1998-99 Renewal Free Application for Federal Student Aid (Renewal FAFSA) | 9/1/1997
This letter provides guidance regarding the Notice published in the Federal Register on September 19, 1997, that informs institutions of the deadline dates for institutions to use designated electronic processes to meet administrative capability requirements for participation in the Title IV Federal Student Financial Assistance Programs | 10/1/1997
Compliance with a new Federal requirement relating to electronic participation between the ED and postsecondary educational institutions | 11/1/1997
Changes and enhancements to the 1998-99 application processing system | 11/1/1997
Guidance for institutions of higher education, guaranty agencies, and lenders concerning the recent flooding in North Dakota, South Dakota, and Minnesota | 5/1/1997
National Student Loan Data System Reporting Requirements | 5/1/1997
This letter provides guidance concerning closed school loan discharges for borrowers who attended certain correspondence schools | 7/1/1997
This letter provides guidance relating to the filing of the Lender's Application for Payment of Insurance Claim (ED Form 1207) | 9/1/1997
This letter accompanies the supplemental awards issued in response to the Application for Additional Allocation of FWS Funds for Fiscal Year 1997. REFERENCE: This letter supplements Chapter 7 of the FSA Handbook | 10/21/1997
This letter announces changes to the Electronic Data Exchange service by which institutions exchange 1996-97 Pell payment data with the Department of Education, and the associated customer support function | 4/1/1997
This letter provides information to institutions on procedures for requesting Federal Pell Grant Authorization Adjustments. It supersedes information contained in the initial instruction, GEN 94-14 dated April 1994 | 6/1/1997
Procedures for 1996-97 Federal Pell Grant account adjustments after the September 30, 1997 submission deadline | 10/1/1997
This letter contains the 1997-98 Federal Pell Grant Program payment and disbursement schedules | 1/1/1997
To identify postsecondary institutions which may not have received notice of the requirement to submit an application for recertification in the Federal student financial aid programs | 3/1/1997
Guidance for institutions of higher education, guaranty agencies, and lenders concerning the recent flooding in North Dakota, South Dakota, and Minnesota | 5/1/1997
This letter conveys the application that each participating State must submit to receive fiscal year 1997 funds for the SSIG Program | 2/1/1997
Fiscal Year 1996 (1996-97 award year) State Student Incentive Grant (SSIG) Program Performance Report (ED Form 1288-1) | 8/1/1997
This letter provides information on Tentative1997-98 Funding Levels for the Campus-Based Programs | 1/1/1997
Transmittal letter for the 1997-98 Electronic FISAP diskette package | 10/22/1997
This letter describes two training series on the 1998-99 EDExpress for Windows software: One on application processing and the other on packaging. Workshop schedules and registration forms are included | 3/1/1998
Distribution of the 1998 Spring Training Calendar | 3/1/1998
Distribution of the 1998 Summer Training Calendar | 6/1/1998
This letter describes a nationwide series of National Student Loan Data System (NSLDS) workshops and lists the sites, dates, and registration procedures | 6/1/1998
We are pleased to announce the availability of a Student Financial Assistance Programs “fax broadcast” service for postsecondary schools | 6/1/1998
The Student Financial Assistance electronic Bulletin Board Service (BBS), which has served the financial aid community since spring 1995, will be retired as of July 1, 1998 | 6/1/1998
Announces the new 1999-2000 Recipient Financial Management System (RFMS) for reporting and requesting funds under the Federal Pell Grant Program | 7/1/1998
Announcement of October 15 Student Financial Assistance Videoconference | 8/1/1998
Announces the development of a Master Promissory Note process for use in the Direct Loan and the FFEL Programs | 9/1/1998
This letter announces two federal student aid training events for High School Counselors to be presented in Fall 1998, lists the locations and dates for the events, and provides registration procedures | 9/1/1998
Low-Income School and Teacher Shortage Area Lists for Loan Cancellation/Deferment now available on the Web | 10/1/1998
How to order bulk quantities of the 1999-2000 FAFSA and Student Guide | 10/1/1998
Teleconference—Department is sponsoring to address the Y2K issue | 11/1/1998
Automated application status checks now available on the toll-free line at the Federal Student Aid Information Center | 11/1/1998
The Hope Scholarship and Lifetime Learning Tax Credits | 12/1/1998
This letter provides information on Tentative 1998-99 Funding Levels for the Campus-Based Programs | 1/1/1998
Changes in the 1999-2000 FISAP for the Federal Perkins Loan, Federal Supplemental Educational Opportunity Grant (FSEOG), and Federal Work-Study (FWS) Programs | 1/1/1998
Information regarding your institution's final authorization letter for funding under the campus-based programs for the 1998-99 award year | 3/1/1998
This letter provides information on the Application for Additional Allocation of Federal Work-Study Funds for Fiscal Year 1998 | 3/1/1998
This letter provides procedures for submitting a request for a waiver of the1998-99 FWS community service expenditure requirement | 5/1/1998
Information regarding the waiver of the institutional-share requirement under the Federal Work-Study Program for students employed as tutors in family literacy programs | 5/1/1998
Release of Campus-Based Funds and Request for Supplemental Federal Work-Study (FWS) Funds | 6/1/1998
Safeguard Activity Report for the Federal Perkins Loan Program | 6/1/1998
Instruction concerning the Assignment of defaulted Federal Perkins Loans and National Direct (or Defense) Student Loans ED for collection that expires June 30, 1998 | 6/1/1998
This letter accompanies the 1996-97 Federal Perkins Loan Service Cancellations Payment Letter | 7/1/1998
Provides updated fund liquidation procedures for an institution that ends its participation in the Federal Perkins Loan Program | 7/1/1998
This letter provides information regarding supplemental funding under the Campus-Based Programs for the 1998-1999 award year | 8/1/1998
Provides information concerning the Assignment of defaulted Federal Perkins Loans and NDSLs to ED for collection | 9/1/1998
Use of State scholarships and grants as the non-Federal share of Federal Supplemental Educational Opportunity Grant awards | 9/1/1998
Cover letter for the 1999-2000 FISAP Edit/Verification Process | 11/1/1998
High winds, tornadoes, and flooding in Florida | 1/1/1998
Severe winter and ice storms, high winds, and flooding in New York | 1/1/1998
Flooding in Tennessee | 1/1/1998
Flooding in North Carolina | 1/1/1998
Ice storm in Maine | 1/1/1998
Ice storm in New Hampshire | 1/1/1998
Flooding in Tennessee | 2/1/1998
Flooding in California | 2/1/1998
Tornadoes and flooding in Florida | 2/1/1998
Flooding in California | 2/28/1998
Hurricane Georges in Puerto Rico | 9/28/1998
Hurricane Georges in Florida | 10/1/1998
Hurricane Georges in the U.S. Virgin Islands | 10/1/1998
Hurricane Georges in Alabama | 10/1/1998
Hurricane Georges in Mississippi | 10/1/1998
Hurricane Georges in Louisiana | 10/1/1998
Hurricane Georges in Mississippi | 10/1/1998
Hurricane Georges in Mississippi | 10/1/1998
Hurricane Georges in Alabama | 10/1/1998
Flooding in Missouri | 10/1/1998
Ice storm in Maine | 2/28/1998
Tornadoes and flooding in Kansas | 10/1/1998
Hurricane Georges in Mississippi | 10/1/1998
Hurricane Georges in Alabama | 10/1/1998
Landslide in Washington | 10/1/1998
Flooding and storm damage in Missouri | 10/1/1998
Flooding and storm damage in Texas | 10/1/1998
Flooding and storm damage in Texas | 10/1/1998
Flooding and storm damage in Kansas | 11/1/1998
Flooding in Missouri | 11/1/1998
Tropical Storm Mitch in Florida | 11/10/1998
Ice storm in Vermont | 2/28/1998
Flooding and storm damage in Kansas | 11/10/1998
Flooding and storm damage in Kansas | 11/18/1998
Flooding and storm damage in Texas | 11/19/1998
Tropical Storm Mitch in Florida | 11/19/1998
Severe weather in Texas | 12/1/1998
Tornadoes and flooding in Kansas | 12/1/1998
Hurricane Georges in Mississippi | 12/9/1998
Tornadoes in Florida | 2/25/1998
Tornadoes in Florida | 2/27/1998
Flooding in California | 3/1/1998
Tornadoes in Florida | 3/1/1998
Flooding in New Jersey | 3/1/1998
Flooding in California | 3/10/1998
Flooding in Alabama | 3/11/1998
Flooding in Georgia | 3/12/1998
Flooding in Georgia | 3/17/1998
Tornadoes and flooding in Florida | 3/17/1998
Flooding in Alabama | 3/19/1998
Flooding in Georgia | 3/191998
Flooding in North Carolina | 3/20/1998
Tornadoes in Georgia | 3/20/1998
Tornadoes in North Carolina | 3/24/1998
Flooding in Georgia | 3/31/1998
Tornadoes in Minnesota | 4/2/1998
Flooding in Georgia | 4/6/1998
Flooding in Georgia | 4/9/1998
Tornadoes in Georgia | 4/13/1998
Tornadoes in Alabama | 4/13/1998
Tornadoes in Georgia | 4/14/1998
Flooding in Georgia | 4/14/1998
Tornadoes in Tennessee | 4/22/1998
Tornadoes in Tennessee | 4/27/1998
Tornadoes in Arkansas | 4/28/1998
Tornadoes in Tennessee | 4/29/1998
Tornadoes in Alabama | 5/1/1998
Tornadoes in Tennessee | 5/1/1998
Tornadoes in Kentucky | 5/1/1998
Tornadoes in Tennessee | 5/1/1998
Flooding in Georgia | 5/1/1998
Flooding in Georgia | 5/1/1998
Tornadoes in Tennessee | 5/1/1998
Tornadoes in Kentucky | 5/1/1998
Tornadoes in Tennessee | 5/1/1998
Flooding in Georgia | 5/18/1998
Tornadoes in Tennessee | 5/27/1998
Tornadoes in South Dakota | 6/1/1998
Tornadoes in South Dakota | 6/4/1998
Tornadoes in Pennsylvania | 6/9/1998
Flooding in Oregon | 6/16/1998
Flooding in Massachusetts | 6/25/1998
Flooding in Vermont | 7/1/1998
Severe weather in Ohio | 7/1/1998
Severe weather in Iowa | 7/1/1998
Severe weather in West Virginia | 7/1/1998
Severe weather in New York | 7/1/1998
Severe weather in Iowa | 7/1/1998
Fires in Florida | 7/1/1998
Fires in Florida | 7/1/1998
Severe weather in New York | 7/1/1998
Flooding in North Dakota | 7/1/1998
Flooding in North Dakota | 8/3/1998
Severe weather in Iowa | 8/3/1998
Flooding in Vermont | 8/3/1998
Severe weather in Iowa | 8/3/1998
Tornadoes in Pennsylvania | 8/5/1998
Flooding in Massachusetts | 8/5/1998
Flooding in Georgia | 8/5/1998
Flooding in North Dakota | 8/5/1998
Flooding in South Dakota | 8/5/1998
Severe weather in West Virginia | 8/5/1998
Severe weather in Ohio | 8/5/1998
Tornadoes in Minnesota | 8/5/1998
Flooding in New Hampshire | 8/5/1998
Tornadoes in Kentucky | 8/5/1998
Tornadoes in Alabama | 8/5/1998
Flooding in Tennessee | 8/6/1998
Tornadoes in North Carolina | 8/6/1998
Flooding in New Jersey | 8/6/1998
Flooding in Tennessee | 8/6/1998
Severe weather in Iowa | 8/12/1998
Flooding in Wisconsin | 8/12/1998
Severe weather in Iowa | 8/20/1998
Flooding in Texas | 8/26/1998
Hurricane Bonnie in North Carolina | 8/27/1998
Flooding in Texas | 9/1/1998
Flooding in Wisconsin | 9/1/1998
Flooding in Texas | 9/2/1991
Hurricane Bonnie in North Carolina | 9/4/1998
Hurricane Bonnie in Virginia | 9/8/1998
Hurricane Earl in Florida | 9/8/1991
Severe weather in New York | 9/16/1991
Severe weather in New York | 9/22/1998
Severe weather in Texas | 9/24/1998
Severe weather in Louisiana | 9/24/1998
This letter advises guaranty agencies in the Federal Family Education Loan (FFEL) Program of the potential impact of the “Year 2000” problem and the importance of an aggressive approach to ensure that the FFEL Program will continue unimpaired | 3/1/1998
To provide general information concerning the forthcoming changes in Title IV program numbers used by participating institutions of postsecondary education, third party servicers, lenders, and guaranty agencies | 3/1/1998
Extension of Guaranty Agency Quarterly/Annual Report (ED Form 1130) and Revised Instructions | 3/1/1998
This letter announces a less burdensome way for Peace Corps volunteers to apply for economic hardship deferments on their Federal student loans | 8/1/1998
Last Submission Date for Default Reinsurance Requests for FY 1998 | 8/1/1998
Revised Guaranty Agency Quarterly/Annual Report (ED Form 1130), Revised Instructions, Revised Due Dates and Extension of the Guaranty Monthly Claims and Collections Report (ED Form 1189) | 11/01/1998
This letter advises institutions of the potential impact of the Year 2000 problem and the importance of an aggressive approach to ensuring that Title IV Student Financial Assistance (SFA) Programs will continue unimpaired. It also encloses a brief definition of the Year 2000 problem and compliance requirements, and it highlights the functions where postsecondary institutions and Department of Education SFA data systems interface | 1/1/1998
This letter announces the staffing of the Institutional improvement Specialist for each Case Management Team in the Institutional Participation and Oversight Service, the functions that the Specialists perform, and their names and addresses | 1/1/1998
Temporary procedures for drawing down Federal Direct Loan, Federal Pell Grant, and Campus-Based Program funds during the period in which the Department converts its payment system from the Payment Management System (PMS) to the new EDCAPS Grant Administration and Payment System (GAPS) | 2/1/1998
Implementation of the NSLDS/CPS Post-Screening process during March of 1998 and reminder of institutional responsibility to monitor student eligibility | 3/1/1998
To provide general information concerning the forthcoming changes in Title IV program numbers used by participating institutions of postsecondary education, third party servicers, lenders, and guaranty agencies | 3/1/1998
Announcement of Rescheduled Transition from PMS to EDCAPS/GAPS | 3/1/1998
Information regarding the eligibility of students enrolled in courses offered through distance education to receive financial assistance from the programs authorized by Title IV of the Higher Education Act of 1965, as amended (HEA) | 5/1/1998
Changes to the Higher Education Act of 1965, as amended (HEA), made by Public Law 105-18 | 6/1/1998
This letter transmits A Guide to 1998-99 SARs and ISIRs | 6/1/1998
This letter announces a conference for Third Party Servicers sponsored by the U.S. Department of Education August 27-28 in Arlington, VA | 6/1/1998
Announces the availability of the NSLDS to accept Title IV Federal student aid overpayment information from institutions | 7/1/1998
This letter announces three U.S. Department of Education Electronic Access Conferences (EAC) entitled “Connect for Success” to be held in Kansas City, MO November 17-19; Washington, D.C. December 1-3; and San Diego, CA December 15-17 | 7/1/1998
Announces a less burdensome way for Peace Corps volunteers to apply for economic hardship deferments on their Federal student loans | 8/1/1998
Electronic dissemination to replace many SFA mailings | 8/1/1998
This letter provides information, schedules and options for institutions wishing to request electronic and/or printed materials and files for the 1999-2000 Renewal Free Application for Federal Student Aid (Renewal FAFSA) | 9/1/1998
I am writing to you to ask for your continued support as your financial aid office, business office, and computer processing services work with the Department of Education (the Department) to modernize the delivery of Federal student financial assistance beginning with the 1999-2000 academic year | 10/1/1998
This letter announces the availability of Organization Contact Screens in the National Student Loan Data System (NSLDS) | 10/1/1998
This letter describes the new procedures for enrolling and updating enrollment information for the Title IV Wide Area Network (Title IV WAN) that will be implemented during November 1998 | 11/1/1998
This letter provides information about changes and enhancements to the 1999-2000 application processing system, including changes to the Free Application for Federal Student Aid (FAFSA), the Student Aid Report (SAR), and the Institutional Student Information Record (ISIR) | 11/1/1998
President Clinton signed the Higher Education Amendments of 1998 into law | 11/1/1998
Office of Student Financial Assistance Programs (OSFAP) Update | 11/1/1998
This letter transmits A Guide to 1999-2000 SARs and ISIRs | 12/1/1998
This letter advises lenders in the Federal Family Education Loan (FFEL) Program of the potential impact of the “Year 2000” problem and the importance of an aggressive approach to ensure that the FFEL Program will continue unimpaired | 3/1/1998
On September 30, 1997, the United States Court of Appeals for the District of Columbia Circuit affirmed a District Court decision concluding that the Department's interpretation of § 427A(i)(7) of the Higher Education Act of 1965, as amended (HEA), 20 U.S.C. § 1077a(i)(7) was incorrect. See Bank of America N.T. & S.A. v. Riley, 1997 U.S. App. LEXIS 28483 (D.C. Cir. 1997), aff'g 940 F.Supp. 348 (D.D.C. 1996) | 3/1/1998
To provide general information concerning the forthcoming changes in Title IV program numbers used by participating institutions of postsecondary education, third party servicers, lenders, and guaranty agencies | 3/1/1998
Extension of lender audit requirement deadline | 3/1/1998
This letter provides guidance relating to the filing of the Lender's Interest and Special Allowance Request and Report (ED Form 799) | 4/1/1998
Extension of filing deadline under Dear Colleague Letter 98-L-202 | 6/1/1998
Clarification of the Department of Education's method of payment for special allowance granted in the court decision Bank of America NT & SEA. v. Riley | 7/1/1998
Announces a less burdensome way for Peace Corps volunteers to apply for economic hardship deferments on their Federal student loans | 8/1/1998
This letter provides clarification of an institutional eligibility criteria for the awarding of increased amounts of unsubsidized loans under the Direct Loan and FFEL programs for certain Health Professions students | 10/1/1998
This letter announces enhancements to the Federal Pell Grant customer support function, including expanded services available through the telephone number used to reach the Institutional Access System as well as new addresses for submission of payment data and correspondence | 1/1/1998
This letter contains two sets of 1998-99 Federal Pell Grant Program Payment and Disbursement schedules—Regular and Alternative | 1/1/1998
Procedures for 1997-98 Federal Pell Grant account adjustments after the September 30, 1998 submission deadline | 9/1/1998
This letter is the second in a series that describes the new 1999-2000 Recipient Financial Management System (RFMS) for reporting and requesting funds under the Federal Pell Grant Program | 9/1/1998
This letter invites institutions to consider volunteering to participate in a pilot of the Just-In-Time payment method in the Federal Pell Grant Program starting in the 1999-2000 award year | 9/1/1998
This letter conveys the application that each participating State must submit to receive fiscal year 1998 funds for the State Student Incentive Grant (SSIG) Program | 2/1/1998
To provide general information concerning the forthcoming changes in Title IV program numbers used by participating institutions of postsecondary education, third party servicers, lenders, and guaranty agencies | 3/1/1998
Fiscal Year 1997 (1997-98 award year) State Student Incentive Grant (SSIG) Program Performance Report (ED Form 1288-1) | 8/1/1998
This letter provides information on a preliminary estimate of your institution's 1997-98 Federal Work-Study funding. WE ARE SENDING YOU THIS LETTER ALONG WITH THE FISAP EDIT/VERIFICATION MATERIALS FOR 1997-98 | 2/24/1998
This letter describes two training series on the 1999—2000 EDExpress for Windows 32-bit software: One on Application Processing and the other on Packaging. A training calendar, description of the training sessions, and registration instructions are attached | 2/1/1999
Informing and requesting partner input on SFA's organizational structure | 3/25/1999
Announcing New Financial Aid Administrator Training | 4/1/1991
This letter describes a nationwide series of Fiscal Officer Training (FOT) workshops, provides the agenda, sites and dates for the workshops; explains the registration procedures; and provides logistical information for these workshops | 5/1/1999
This letter announces three additional Spring Training `99 workshops for Puerto Rico schools and includes agendas and a registration form | 6/1/1999
The Department of Education is pleased to announce Direct Loan Consolidation training dates, locations, and how to register | 6/1/1999
We are now offering Direct Loan Consolidation training in Boston, MA (Region I), Atlanta, GA (Region IV), and Kansas City, MO (Region VII) | 7/21/1999
This letter announces a series of one-day federal student aid workshops for High School Counselors and TRIO counselors. The workshops will be presented from October 1999 through January 2000. This letter also contains a list of workshop locations and dates, and provides registration procedures | 9/1/1999
October 7, 1999 SFA Satellite Videoconference | 9/1/1999
We are now offering Direct Consolidation Loan training in Boston, MA (Region I) | 10/1/1999
Letter announcing that 21 lessons in the new computer-based training course SFA COACH are available to download from www.ifap.ed.gov/sfacoach | 10/1/1999
SFA Satellite Videoconference—December 2, 1999 | 10/1/1999
January 20, 2000 (1-3 p.m. Eastern Time) Student Financial Aid Videoconference for High School Counselors, TRIO Program Counselors, Students, and Parents | 12/1/1999
Year 2000 disclosure notice on the FISAP software package | 1/1/1999
Changes in the 2000-2001 FISAP for the Federal Perkins, FSEOG, and FWS Programs | 1/1/1999
Tentative 1999-2000 Funding Levels for the Campus-Based Programs | 1/1/1999
Tentative 1999-2000 Funding Levels for the Campus-Based Programs | 1/1/1999
Application for Additional Allocation of FWS Funds for Fiscal Year 1999 | 2/1/1999
Information regarding your institution's final funding authorization under the Campus-Based Programs for the 1999-2000 award year | 3/1/1999
Procedures to request a waiver of the 1999-2000 FWS community service expenditure requirement | 5/1/1999
Additional methods by which an institution may submit its request for a waiver of the 1999-2000 FWS community service expenditure requirement | 6/1/1999
This letter accompanies the 1997-98 Federal Perkins Loan Service Cancellations Payment Letter | 6/1/1999
Notice to participating schools in the Campus-Based Programs of ED's intent to issue Award Letters, Funding Worksheets, and Cover Letters over Title IV WAN | 7/1/1999
Release of Campus-Based Funds and Request for Supplemental FWS | 7/1/1999
Waiver of the institutional-share requirement under the FWS Program for students employed as math tutors for elementary through ninth grade | 7/1/1999
Calculating Default Rates in the Federal Perkins Loan Program | 7/1/1999
Safeguard Activity Report for the Federal Perkins Loan Program | 7/1/1999
Use of State scholarships and grants as the non-Federal share of FSEOG awards | 8/1/1999
Campus-Based Programs Funding Formula Changes for the 2000-2001 Award Year | 9/1/1999
Supplemental funding under the Campus-Based Programs for the 1999-2000 award year | 9/1/1999
Reminder to Campus-Based Program participants about the FISAP | 9/1/1999
Year 2000 disclosure notice on the FISAP V2.0 software package | 10/1/1999
Campus-Based Programs 2000-2001 FISAP Edit/Verification | 11/1/1999
Tornadoes in Tennessee | 1/20/1999
Tornadoes in Arkansas | 1/1/19991
Tornadoes in Tennessee | 1/26/1991
Tornadoes in Arkansas | 2/2/1999
Tornadoes in Arkansas | 2/1/1999
Tornadoes in Tennessee | 2/1/1999
Tornadoes in Louisiana. | 4/14/1999
Tornadoes in Georgia | 4/1/1999
Flood in Missouri | 4/1/1999
Tornadoes in Oklahoma | 5/1/1999
Tornadoes in Kansas | 5/1/1999
Tornadoes in Texas | 5/1/1999
Flood in Missouri | 5/1/1999
Tornadoes in Oklahoma | 5/10/1999
Severe weather in Tennessee | 5/1/1999
Severe weather in Colorado | 5/1/1999
Severe weather in Iowa | 5/27/1999
Severe weather in Illinois | 6/1/1999
Severe weather in North Dakota | 6/9/1999
Severe weather in Iowa | 6/10/1999
Severe weather in South Dakota | 6/10/1999
Flood in Missouri | 6/1/1999
Severe weather in Iowa | 6/1/1999
Severe weather in Colorado | 6/1/1999
Tornadoes in Kansas | 6/1/1999
Tornadoes in Texas | 6/1/1999
Severe weather in Iowa | 6/1/1999
Discontinuation of “Disaster Letters” | 8/5/1999
Approval of Loan Deferment Forms for the FFEL Program | 7/1/1999
Errors in Economic Hardship Deferment Request Form | 10/1/1999
A summary of ED's guaranty agency-related contingency plans and general Y2K resources | 12/1/1999
Year 2000 disclosure notice on the DL Module of the 1998—1999 EDExpress V4.4 software package | 1/1/1999
Year 2000 disclosure notice on the Student Status Confirmation Reporting software package | 1/1/1999
Year 2000 disclosure notice on the 1998—1999 Quality Assurance Program | 1/1/1999
Year 2000 disclosure notice on the 1999-2000 EDExpress V5.0 software package, which contains the Applications Processing and Packaging modules | 1/1/1999
Year 2000 disclosure notice on the 1999-2000 FAFSA Express software package | 1/1/1999
Year 2000 disclosure notice on the 1999-2000 FOTW and Renewal FOTW software products | 1/1/1999
Students receiving preparation to compete and succeed in the twenty-first century workplace | 2/1/1999
Year 2000 disclosure notice on the Title IV Wide Area Network (TIVWAN) and the EDConnect for Windows 32-Bit software package | 3/1/1999
Year 2000 disclosure notice on the DL Module of the 1999—2000 EDExpress V5.1 software package | 3/1/1999
Year 2000 School Testing | 3/1/1999
We are well underway as the nation's first Performance Based Organization | 3/1/1999
The provision of the HEA related to student eligibility for Title IV financial aid due to drug convictions will not become effective until July 1, 2000 | 6/1/1999
Let Direct Loan Consolidation be a tool for you to help your students | 6/1/1999
Changes to the process for requesting electronic and/or printed Renewal FAFSA for the 2000-2001 processing cycle | 6/1/1999
This letter announces a conference for Third Party Services and Software Providers sponsored by the U.S. Department of Education August 26-27 in Arlington, Virginia | 6/1/1999
ED Received An A Grade for Our Year 2000 Progress | 7/1/1999
Implementation of Blanket Certificate of Loan Guaranty Pilot Program | 8/1/1999
Three Electronic Access Conferences that will be offered in 1999. The conferences, entitled “Power Up for 2000,” will be held on November 2-4, 1999, in Miami, Florida; November 15-17, 1999, in Keystone, Colorado; and December 15-17, 1999, in San Antonio, Texas | 8/1/1999
Step-by-step instructions and tips to schools wishing to request electronic files and/or printed materials for the 2000-2001 Renewal FAFSA | 9/1/1999
Ordering bulk quantities of 2000-2001 Application Materials | 9/1/1999
Guidance for helping Title IV participants affected by Hurricane Floyd | 9/1/1999
Authorization for a borrower's current loan holder to release the borrower's loan information to consolidating lenders without sending current loan holder a Loan Verification Certificates (LVC) with the borrower's signature if certain condition are met | 10/1/1999
Year 2000 disclosure notice on the Student Status Confirmation Reporting version 1.2 (SSCR V1.2) software package | 10/1/1999
New enrollment document for the Student Aid Internet Gateway (SAIG) | 10/1/1999
Revised Procedures Related to Death and Total and Permanent Disability Discharge Requests for the FFEL Program | 11/1/1999
Recently enacted amendment to the Y2K Act (P.L. 106-37) and a reminder of the importance of testing student aid data exchanges with ED's systems | 12/1/1999
Final “Drug Worksheet” to help explain question 28 on the FAFSA | 12/1/1999
Changes and enhancements to the 2000-2001 Application Processing System, including changes to the FAFSA, SAR, the ISIR, our electronic application products, and our new SFA download website | 12/1/1999
Information to schools and their servicers about what can still be done to mitigate Y2K system failures in the delivery of Federal title IV aid | 12/1/1999
Updates the contingency plans that ED will implement in the event of a Y2K related computer system failure at a school or third-party servicer | 12/20/1999
Summary of ED's lender and servicer related contingency plans and general Y2K resources | 12/1/1999
Provides our lender and GA partners with information pertaining to loan processing and disbursement options and the Y2K and information about ED's plans to alleviate any issues that may arise when processing or disbursing loans | 12/1/1999
Provides our lender and GA partners with information pertaining to student loan servicing and the Y2K and information about ED's plans to alleviate any issues that may arise when servicing loans | 12/1/1999
Provides our lender and GA partners with information pertaining to student loan delinquency, default aversion, claim processing and post-claim activities and the Y2K and information about ED's plans to alleviate any issues that may arise during delinquent and defaulted loan activities | 12/1/1999
Application to receive award year 1999-2000 funds for the LEAP Program | 2/1/1999
1998-1999 award year Leveraging Educational Assistance Partnership Program Performance Report (ED Form 1288-1) | 8/1/1999
Year 2000 disclosure notice on the 1998—1999 Pell Payment for Windows V3.0 software package | 1/1/1999
1999-2000 Federal Pell Grant Program Payment and Disbursement Schedules | 1/1/1999
Additional information regarding the new RFMS—first step is the submission of the origination record | 4/8/1999
Additional information regarding the new RFMS—second step is the submission of the disbursement record | 4/1/1999
Procedures for 1998-99 Pell account adjustments after the 9/30/1999 submission deadline | 8/1/1999
Using the Recipient Financial Management System to submit more than one disbursement record per recipient for the Federal Pell Grant Program | 10/1/1999
Year 2000 disclosure notice on the 1999—2000 EDExpress V5.4 software package, which contains the Pell Payment module | 10/1/1999
Y2K mitigation plan for the Federal Pell Grant Program for the 1999-2000 award year | 12/1/1999
2000-2001 Pell Grant Payment and Disbursement Schedules | 12/1/1999
This letter describes a nationwide workshops series for Spring 2000 Reauthorization Training and includes the agenda, registration procedures, and logistical information for these workshops | 1/1/2000
This letter describes a new training series on the 2000-2001 EDExpress Application Processing for Windows software. Workshop schedules and registration information are included | 1/1/2000
We are pleased to announce Direct Consolidation Loan training. This announcement tells you what the training will cover, who should attend, the training dates, locations, and how to register | 2/16/2000
This letter describes a nationwide series of National Student Loan Data System (NSLDS) workshops and lists the site, dates, and registration procedures | 3/1/2000
This letter describes the series of “Direct Loan Accounting Training: The Road to Reconciliation” | 3/1/2000
This letter describes a new training series on the 2000-2001 EDExpress Pell/RFMS for Windows software. Workshop schedules and registration information are included | 3/1/2000
This letter describes a new training series on the 2000-2001 EDExpress Packaging for Windows software. Workshop schedules and registration information are included | 3/1/2000
This letter describes a new training series on the 2000-2001 EDExpress Direct Loan Program. Workshop schedules and registration information are included | 3/1/2000
This letter describes a new training series on the 2000-2001 EDExpress Application Processing for Windows software. Workshop schedules and registration information are included | 4/1/2000
This letter describes a series of training “Super Weeks” sponsored by the Office of Student Financial Assistance to be held in Guam, Hawaii, and Puerto Rico. Workshop schedules and registration information are included | 4/1/2000
A Pre-Release Version of the Return of Title IV Funds Software is available for use on the Internet. You may also register for lab sessions at Regional Training Facilities and at some school sites | 5/1/2000
SFA Publication Listing on the Web | 6/1/2000
Attend one of our three Electronic Access Conferences offered in 2000 | 9/1/2000
October 26, 2000 SFA Satellite Videoconference | 9/1/2000
December 7, 2000 SFA Satellite Videoconference | 11/1/2000
Now we're glad to tell you that the first edition of the entire 36-lesson course is ready for downloading | 2/15/2000
This letter provides information on Tentative 2000-2001 Funding Levels for the Campus-Based Programs | 1/1/2000
Changes in the 2001-2002 FISAP for the Federal Perkins Loan, Federal Supplemental Educational Opportunity Grant (FSEOG), and Federal Work-Study (FWS) Programs | 1/1/2000
Information regarding your institution's final funding authorization under the Campus-Based Programs for the 2000-2001 award year | 3/1/2000
Safeguard Procedures Report for the Federal Perkins Loan Skiptracing Program | 4/1/2000
Close-out of the 1998-1999 awards for the Federal Work-Study (FWS), Federal Perkins Loan, and/or Federal Supplemental Educational Opportunity Grant (FSEOG) Programs | 5/1/2000
This letter provides information on requesting a waiver of the 2000-2001 Federal Work-Study (FWS) community service expenditure requirements | 5/1/2000
This letter pertains to the 1998-1999 Federal Perkins Loan Service Cancellations Reimbursement and Payment Letter | 5/1/2000
Fiscal Operations Report for 1999-2000 and Application to Participate for 2001-2002 (FISAP) | 7/1/2000
The Campus-Based Reallocation Form (E40-4P) | 7/1/2000
Information regarding the 2000-2001 Supplemental Campus-Based award process | 9/1/2000
Use of State scholarships and grants as the non-Federal share of Federal Supplemental Educational Opportunity Grant awards | 9/1/2000
Campus-Based Programs 2001-2002 FISAP Edit/Verification Process | 1/11/2000
2000-08-01—(00-G-329) This letter notifies guaranty agencies, lenders, and servicers in the FFEL program of new Department procedures for processing enrollment information about FFEL borrowers | 8/1/2000
2000-01-01—(GEN-00-01) This letter transmits A Guide to 2000-2001 SARs and ISIRs | 1/1/2000
Beginning on February 28, 2000, the Direct Consolidation Loan Center will accept only the new “Federal Direct Consolidation Loan Application and Promissory Note” | 1/1/2000
This letter transmits the information necessary to comply with the requirements for providing to borrowers information on the Department's Office of the Ombudsman | 3/1/2000
In January 2000, the Department's Office of Inspector General published the U.S. Department of Education's Audit Guide, Audits of Federal Student Financial Assistance Programs at Participating Institutions and Institution Servicers | 4/1/2000
Requesting a waiver of the annual audit submission requirements—available for institutions that disburse less than $200,000 in Title IV funds each award year | 6/1/2000
We invite you to attend the Third-Party Servicers and Software Providers Conference on August 10 and 11 in Arlington, Virginia. This letter describes the conference and tells you how to register | 6/1/2000
SUMMARY: This letter provides advance information on the process for requesting electronic and/or printed Renewal Free Applications for Federal Student Aid (Renewal FAFSA) for the 2001-2002 processing cycle | 7/1/2000
The purpose of this letter is to inform you and your staff that we will soon begin collection campus crime statistics as required by Section 485 (a) and (f) of the Higher Education Act (also known as the Jeanne Clery Disclosure of Campus Security Policy and Campus Crime Statistics Act) (20 U.S.C.1092(a) and (f). Providing this information is required by law as a condition of your institution's continued participation in the Federal student financial aid programs | 7/1/2000
Elimination of the Paper Financial Aid Transcript (FAT) | 8/1/2000
This letter is a follow-up to Action Letter #1 posted to IFAP in July 2000. It discusses the 2001-2002 Renewal Application process, including the upcoming release of SFA's newest standalone PC product called Renewal Applications for Windows 2001-2002, Version 1.0. This letter also provides step-by-step instructions and tips to schools wishing to request electronic files and/or printed materials for the 2001-2002 Renewal Free Application for Federal Student Aid (Renewal FAFSA) process | 9/1/2000
Ordering bulk quantities of 2001-2002 Application Materials | 9/1/2000
We are pleased to announce our new approach to helping you find answers to questions about our Title IV Student Financial Assistance (SFA) programs | 9/1/2000
This action letter provides information about changes and enhancements to the 2001-2002 EDESuite software, which includes EDExpress modules | 11/1/2000
SUMMARY: This letter provides advance notification of a Notice that will be published in the Federal Register informing schools of the deadline date for meeting updated minimum technical specifications in order to use our designated electronic processes | 11/22/2000
Electronic participation in the SFA Programs | 11/22/2000
This action letter provides information about changes and enhancements to the 2001-2002 Application Processing System, including changes to the Free Application for Federal Student Aid (FAFSA), the Student Aid Report (SAR), the Institutional Student Information Record (ISIR), Central Processing System edits, and database matches | 11/22/2000
The final drug worksheet titled “Worksheet for Question 35” is now available | 12/1/2000
Seven Final Rule packages were published on November 1, 2000 | 11/1/2000
This letter notifies guaranty agencies, lenders, and servicers in the FFEL program of new Department procedures for processing enrollment information about FFEL borrowers | 8/1/2000
Application to Receive Award Year 2000-2001 Funds for the Leveraging Educational Assistance Partnership (LEAP) and Special Leveraging Educational Assistance Partnership (SLEAP) Programs | 4/1/2000
Fiscal Year 1999 (1999-2000 award year) Leveraging Educational Assistance Partnership (LEAP) Program Performance Report (ED Form 1288-1) | 11/1/2000
This letter provides you with additional information regarding the new Recipient Financial Management System (RFMS). RFMS is designed to report and request funds for the Federal Pell Grant Program. The Multiple Reporting Record (MRR) process is a new function available for 1999-2000. The MRR provides information to you about a student's origination and disbursement status at other institutions and the percentage of the student's scheduled award that has been disbursed at all institutions | 1/1/2000
This letter provides you with information concerning the procedures for 1999-2000 Federal Pell Grant award adjustments after the October 2, 2000 submission deadline | 9/1/2000
This letter contains two sets of 2001-2002 Federal Pell Grant Program Payment and Disbursement Schedules—Regular and Alternate | 12/29/2000
Two new training workshops for 2001-2002-Delivery System/Application Processing and Packaging-are starting in February | 1/12/2001
May 10, 2001 SFA Satellite Videoconference | 4/23/2001
Two Direct Loan Program workshops for 2001-2002: Direct Loan Basic and Direct Loan Update will be available to participants from June through August all across the country | 5/9/2001
2001 Software Developers Conference August 9 10, 2001 in Arlington, Virginia | 7/6/2001
On behalf of the office of Student Financial Assistance (SFA), U.S. Department of Education, and its Operating Partners, I want to invite you to attend one of the three Electronic Access Conferences offered in 2001. These conferences, entitled “Access for All” will be held at John Ascuaga's Nugget, Reno, Nevada, November 5-7; the Baltimore Marriott Waterfront, Baltimore, Maryland, November 27-29; and the Hyatt Regency, Chicago, Illinois, December 11-13 | 8/30/2001
This letter announces 2001-02 Fiscal Management Training (FMT) | 9/20/2001
It's time to start thinking about your 2002-2003 Packaging software! Training workshops for 2002-2003 EDExpress Packaging will be offered in most regions this October and November | 9/25/2001
November 1, 2001 SFA Satellite Videoconference | 9/26/2001
SUMMARY: December 6, 2001 SFA Satellite Videoconference | 11/16/2001
First Annual Spring Update Conference | 12/6/2001
Tentative CB funding authorization | 1/22/2001
Changes in the 2002-2003 FISAP | 2/1/2001
Final CB funding authorization | 3/22/2001
Request for community service waiver | 4/1/2001
Perkins cancellation reimbursement request for 1999-2000 | 5/10/2001
Close-out of the 1999-2000 awards | 5/18/2001
Outdated Work-Colleges application | 5/24/2001
CB disaster relief guidance for 1999-2000 or the 2000-2001 award years | 7/12/2001
Fiscal Operations Report for 2000-2001 and Application to Participate for 2002-2003 (FISAP) | 7/19/2001
The Campus-Based Reallocation Form (E40-4P) which is due to the Department by August 24, 2001 | 7/7/2001
The Campus-Based FISAP migration to Web | 8/8/2001
Federal Perkins Loan Program IRS Skiptracing Service | 8/29/2001
Announces new Perkins promissory notes | 11/13/2001
Campus-Based Programs 2002-2003 FISAP/Edit Corrections and Update of Perkins Cash on Hand | 11/23/2001
SUMMARY: Issuance of new Perkins promissory notes | 11/28/2001
SUMMARY: Use of State scholarships and grants as the institutional share for FSEOG | 12/31/2001
Teacher loan forgiveness forbearance and unpaid refund discharge forms | 11/1/2001
(SAIG) enhancements | 1/1/2001
Financial analysis clarification of long-term debt | 1/1/2001
2001-2002 ISIRs SAR/ISIR Guide | 2/1/2001
2001-2002 Electronic FAFSA changes | 2/15/2001
Change in 2001-2002 FAFSA processing for non-responses to the “Drug Conviction” question (Question 35) | 3/22/2001
Use of Electronic Signatures in the Federal Student Loan Programs | 5/2/2001
Changes and enhancements to the 2002-2003 EDESuite software | 11/2/2001
Sample Default Management Plan | 6/30/2001
FAFSA, Renewal FAFSA, PIN changes | 8/27/2001
Recent Terrorist Attacks—Relief for Borrowers in the Title IV Loan Programs | 9/17/2001
Recent Terrorist Attacks—Institutional Reporting Deadlines | 9/17/2001
Recent Terrorist Attacks—Persons Affected by Military Mobilization | 9/24/2001
Final 2002-2003 drug worksheet | 11/7/2001
Teacher loan forgiveness forbearance and unpaid refund discharge forms | 11/1/2001
SFA Spring Conference | 1/2/2002
This letter announces 2002-03 EDExpress training | 4/9/2002
This letter announces a two-day workshop on Tools for Ensuring Program Integrity | 4/10/2002
SFA COACH 2001-02 is available online | 5/6/2002
October 24, 2002, Federal Student Aid (FSA) Satellite Videoconference | 9/3/2002
December 12 Federal Student Aid Satellite Videoconference | 11/21/2002
This letter announces workshops on Student Eligibility Basics and Delivery System 2003-2004 | 12/4/2002
This letter provides information on Tentative 2002-2003 Funding Levels for the Campus-Based Programs | 1/23/2002
This letter provides information regarding the “Institutional Application and Agreement for Participation in the Work-Colleges Program” for the 2002-2003 award year | 3/13/2002
Information regarding your institution's final funding authorization under the Campus-Based Programs for the 2002-2003 award year | 3/20/2002
Close-out of the 2000-2001 awards for FWS, Perkins Loan, and/or FSEOG Programs | 4/19/2002
Revised Policies and Procedures for Assigning Perkins Loans | 4/26/2002
SUMMARY: Changes for the 2001-2002 Fiscal Operations Report and 2003-2004 FISAP for Perkins Loan, FSEOG, and FWS Programs | 5/14/2002
This letter pertains to the 2000-2001 Federal Perkins Loan Service Cancellation Reimbursement and Payment Letter | 5/16/2002
SUMMARY: This letter provides information on requesting a waiver of the 2002-2003 FWS Program community service expenditure requirements | 6/27/2002
The Campus-Based Reallocation Form is due to the Department by August 23, 2002 | 7/24/2002
FISAP 2001-2002 and Application to Participate for 2003-2004 | 7/25/2002
Information regarding the 2002-2003 supplemental campus-based award process | 9/19/2002
Federal Perkins Loan Program IRS Skiptracing Service | 10/31/2002
Campus-Based Programs 2003-2004 FISAP Edit/Verification Process | 10/31/2002
Expiration of the Current Statutory Exceptions to Certain Loan Disbursement Rules for Low-Default Rate Schools | 8/13/2002
Eligibility of Home-School Students—Institutional and Student Eligibility | 12/12/2002
This action letter provides information about changes and enhancements to the 2002-2003 Application Processing System, including changes to the FAFSA, SAR, the ISIR, Central Processing System edits, and database matches | 1/3/2002
This letter transmits A Guide to 2002-2003 ISIRs | 1/8/2002
Expiration of the current statutory exceptions to certain loan disbursement rules for low-default rate schools | 8/13/2002
Eligibility of Home-Schooled Students—Institutional and Student Eligibility | 11/27/2002
Expiration of the Current Statutory Exceptions to Certain Loan Disbursement Rules for Low-Default Rate Schools | 8/13/2002
Eligibility of Home-Schooled Students—Institutional and Student Eligibility | 12/12/2002
Summary: This letter contains two sets of 2002-2003 Federal Pell Grant Program Payment and Disbursement Schedules—Regular and Alternate | 1/25/2002
This letter announces training for EDExpress Application Processing 2003-04 | 1/8/2003
This letter announces web-based training for 2003-04 EDExpress Basic functions | 3/17/2003
This letter announces 2003-04 EDExpress Direct Loan training for full participants in COD | 3/17/2003
This letter announces training for EDExpress Pell Grant Processing, 2003-04 | 3/17/2003
This letter announces the release of FSA COACH 2002-03 | 5/6/2003
This letter announces online training sessions through WebEx for 2003-04 EDExpress users | 5/21/2003
Title IV Cash Management Training | 7/14/2003
This letter announces online training sessions through WebEx for 2003-04 EDExpress users | 8/4/2003
The U.S. Department of Education (ED) invites you and your colleagues to join us at one of our two Electronic Access Conferences (EACs) | 8/25/2003
Title IV Cash Management Training | 9/20/2003
This letter announces FSA's 2004-05 Delivery System Videoconference on October 22, from 1:00-3:00 p.m. Eastern time | 9/25/2003
This letter reminds financial aid administrators that FSA's annual Delivery System Videoconference will be broadcast on October 22, from 1:00-3:00 p.m. Eastern Time, and provides registration information | 10/8/2003
Application and Agreement for Participation in the Work-Colleges Program” for the 2003-2004 award year | 1/16/2003
Tentative 2003-2004 Funding Levels for the Campus-Based Programs | 1/21/2003
Changes in the 2004-2005 FISAP | 3/14/2003
Final funding authorization under the Campus-Based Programs for the 2003-2004 award year | 3/24/2003
State Scholarships and Grants as the Non-Federal Share of SEOG | 4/17/2003
Close-out of the 2001-2002 awards for the Federal Work-Study (FWS), Federal Perkins Loan, and/or Federal Supplemental Educational Opportunity Grant (FSEOG) Programs | 4/30/2003
Requesting a waiver of the 2003-2004 Federal Work-Study Program community service expenditure requirements | 5/16/2003
Federal Perkins Loan Service Cancellation Reimbursement | 6/6/2003
Campus-Based Reallocation Form is due by August 22, 2003 | 7/15/2003
Fiscal Operations Report and Application to Participate (FISAP) | 7/16/2003
Revised Perkins Loan Assignment Form and Assignment Procedures | 8/4/2003
Supplemental Campus-Based Awards | 9/3/2003
2004-2005 FISAP Edit/Verification Process | 11/10/2003
State Scholarships and Grants as the Non-Federal Share of SEOG | 12/11/2003
Federal Family Education Loan (FFEL) Program loan holders must respond to Consolidation Loan verification requests within 10 business days | 1/24/2003
Administrative relief for students and borrowers affected by military mobilizations | 3/25/2003
Foreign schools | 8/25/2003
Martin Luther King, Jr. Scholarship Program | 1/8/2003
Federal Family Education Loan (FFEL) Program loan holders must respond to Consolidation Loan verification requests within 10 business days | 1/24/2003
New electronic notification process for draft and official cohort default rates in the FFEL and Direct Loan programs | 3/19/2003
Administrative relief for students and borrowers affected by military mobilizations | 3/25/2003
Dependency Overrides | 5/2/2003
The Office of Federal Student Aid is adjusting the XML implementation schedule. This letter explains the reasons behind this adjustment | 7/30/2003
Inclusion of School Information on FSA's Student Aid on the Web (previously known as the Students Portal) | 9/15/2003
NSLDS Calculation of Aggregate Loan Amounts | 10/15/2003
Martin Luther King, Jr., Scholars Program | 12/8/2003
Federal Family Education Loan (FFEL) Program loan holders must respond to Consolidation Loan verification requests within 10 business days | 1/24/2003
Administrative relief for students and borrowers affected by military mobilizations | 3/25/2003
2003-2004 Federal Pell Grant Payment and Disbursement Schedules | 2/27/2003
This letter announces FSA's one-day training session, “Electronic Application Processing” | 2/20/2004
This letter announces FSA's release of the first of two web-based 2004-05 EDExpress Basics training modules | 2/25/2004
This letter announces FSA's release of three additional modules of 2004-05 EDExpress Basics: Pell Grants, Direct Loans, and Packaging | 5/6/2004
This letter announces the upcoming replacement of FSA's current Training Registration System with a simpler, more user-friendly system, and a two-week period of “down time” while FSA transitions from the old system to the new. If you need to register for a course during this period, FSA will register you manually | 5/13/2004
This letter announces the arrival of FSA's new, user-friendly Training Registration System | 5/28/2004
This letter announces online, instructor-led training sessions for 2004-05 EDExpress users. Topics covered are: Origination, Disbursement, and Reconciliation | 6/1/2004
This letter announces online, instructor-led training sessions for 2004-05 EDExpress users. Topics covered are: Direct Loan Origination, Disbursement, and Reconciliation | 7/15/2004
This letter announces FSA's one-day training workshops (offered from September through December at locations throughout the country) covering Return of Title IV Funds, Analyzing Data, and Conflicting Information, and provides a link to FSA's new registration system, where all workshops and locations are listed | 8/11/2004
This letter announces the release of the 2004-05 edition of FSA's online training course FSA COACH | 8/16/2004
Please join us for FSA's videoconference The Application and Delivery System: What's New for 2005-2006 on November 18, 2004 | 10/28/2004
Don't forget! This is a reminder to tune in to FSA's videoconference, The Application and Delivery System: What's New for 2005-2006, on November 18, from 1:00-3:00 p.m. Eastern Time | 11/18/2004
Campus-Based Tentative Funding Levels | 1/23/2004
Participation in the Work-Colleges Program | 1/28/2004
2005-2006 FISAP Change Letter | 3/10/2004
2004-05 Final Funding Authorization Letters for the Campus-Based Programs | 3/23/2004
2004-2005 Federal Work-Study Community Service Waiver Requests | 3/23/2004
2002-2003 Campus-Based Awards Close-out | 4/13/2004
Federal Perkins Loan Service Cancellation Reimbursement | 5/10/2004
2003-2004 Campus-Based Reallocation Process | 6/25/2004
Fiscal Operations Report and Application to Participate (FISAP) | 6/25/2004
2004-2005 Supplemental Campus-Based Awards | 9/1/2004
Federal Perkins Loan Program: Default Reduction Assistance Program | 9/9/2004
Campus-Based Programs 2005-2006 FISAP Edit/Validation Process and Update of Perkins Cash on Hand | 11/24/2004
Numbering of Dear Colleague/Dear Partner Letters for Financial Partners | 2/17/2004
Exceptional Performer | 3/16/2004
FFEL Consolidation loans for borrowers with both FFEL and non-FFEL Loans | 4/30/2004
FFEL Consolidation loans for borrowers with both FFEL and non-FFEL loans | 8/26/2004
Completion of Loan Verification Certificates (LVCs) by Direct Loan Servicing | 8/26/2004
FFEL Consolidation Payoffs | 12/17/2004
Availability of the 2003 Child Care Provider Loan Forgiveness Application | 1/22/2004
Treatment of Coverdell Accounts and 529 Tuition Plans | 1/22/2004
Return of Title IV Aid | 2/13/2004
Additional Information Regarding E-mails to 2004-05 Financial Aid Applicants | 5/11/2004
Adjusted XML implementation schedule | 7/15/2004
Contact information for FSA's Student Loan Ombudsman's Office | 7/19/2004
Required electronic processes and related system requirements | 9/14/2004
Recent Hurricanes—Filing and Reporting Deadlines | 9/21/2004
Requesting and Using an ED-PIN | 9/27/2004
Reporting of Foreign Gifts, Contracts, and Relationships by Institutions | 10/4/2004
Ordering of Paper FAFSAs | 12/1/2004
Enactment of the “Taxpayer-Teacher Protection Act of 2004” | 12/3/2004
2004-2005 Federal Pell Grant Payment and Disbursement Schedules | 1/30/2004
This letter announces FSA's release of the first of two web-based 2005-06 EDExpress Basics training modules | 1/26/2005
This letter announces a series of one-day workshops on Managing Audits and Program Reviews: Paths for Success, which will also cover self-assessment tools for post secondary institutions to use. It also provides a link to FSA's new registration system, where all workshops and locations are listed | 1/28/2005
This letter announces FSA's 2005-06 online, instructor-led training sessions for users of EDExpress and FAA Access to CPS On-line. Topics covered are: Application entry in EDExpress and FAA Access, Corrections in FAA Access, ISIR Request generation and software enhancements to both systems | 3/21/2005
This letter announces FSA's 2005-06 online, instructor-led training sessions for users of EDExpress. Topics covered are: Pell Grant Processing including advanced uses of Multiple Entry, Disbursement Profile codes, Web functionality, software enhancements and the effect on school business processes | 4/14/2005
This letter announces FSA's 2005-06 online, instructor-led training sessions for users of EDExpress. Topics covered are: Direct Loan processing including advanced uses of Multiple Entry, Disbursement Profile codes, Web functionality, software enhancements, new reports and the effect on school business processes | 5/31/2005
This letter announces the availability of a recorded version of FSA's 2005-06 online, training session for users of EDExpress and FAA Access to CPS On-line. Topics covered are: Application entry in EDExpress and FAA Access, Corrections in FAA Access, ISIR Request generation and software enhancements to both systems. This is a pre-recorded session that demonstrates new and useful features of these FSA software products | 6/20/2005
New Web site for FSA publication orders: www.FSAPubs.org | 10/20/2005
This letter announces FSA's release of the first of three online, self-paced learning modules on EDExpress for 2006-07. This first module, “Application Processing using FAA Access to CPS on the web” covers FAA Access Menus and Navigation and Using EDconnect to transmit data | 12/19/2005
This letter announces the posting to our eCB website of institutions' tentative 2005-2006 funding levels for the campus-based programs | 1/24/2005
Participation in the Work-Colleges Program | 2/14/2005
Use of State Scholarships and Grants as the Non-Federal Share of FSEOG Awards | 2/25/2005
This letter announces the upcoming posting to our eCampus-Based (eCB) web site of schools' 2005-2006 final funding authorizations for the campus-based programs | 3/23/2005
This letter provides information on requesting a waiver of the 2005-2006 community service expenditure requirements under the Federal Work-Study Program | 4/6/2005
This letter provides information about the Fiscal Operations Report for 2004-2005 and Application to Participate for 2006-2007 (FISAP) for the Federal Perkins Loan (Perkins Loan), Federal Supplemental Educational Opportunity Grant (FSEOG), and Federal Work-Study (FWS) programs | 5/13/2005
2003-2004 Campus-Based Awards Closeout | 5/17/2005
2003-2004 Federal Perkins Loan Service Cancellation Reimbursement | 6/6/2005
Final FISAP | 6/30/2005
2004-2005 Campus-Based Reallocation Form and Process | 6/30/2005
New Process for Federal Perkins Loan Program Default Reduction Assistance Program | 7/7/2005
FISAP Edit Corrections and Perkins Cash on Hand Update Due December 15, 2005 | 11/16/2005
2004-2005 Campus-Based Awards Closeout | 12/16/2005
Federal Family Education Loan (FFEL) Consolidation loans for borrowers with both FFEL and non-FFEL loans | 9/20/2005
Invitation to Help Vision New Aid Delivery Processes | 2/8/2005
Teacher Loan Forgiveness Application and Forbearance Forms (Revised) | 3/9/2005
Notifications to 2005-06 Applicants Reminding Them to Update Estimated Income Information | 3/14/2005
FEBI Has a New Name | 4/1/2005
Requesting Approval to Make a Late Disbursement Beyond the 120-Day Period | 4/14/2005
2006-2007 FAFSA on the Web Worksheet and Paper FAFSA Distribution Plan | 9/1/2005
Availability of the Child Care Provider Loan Forgiveness Application for Renewal Benefits and the Child Care Provider Loan Forgiveness Forbearance Form | 9/16/2005
Updated Guidance for Requesting Approval to Make a Late Disbursement Beyond the 120-Day Period | 9/29/2005
Sample Default Prevention and Management Plan | 9/30/2005
Notice of waiver of Title IV grant repayment for students affected by a disaster | 11/9/2005
2005-2006 Federal Pell Grant Payment and Disbursement Schedules | 1/4/2005
(1) Testing on summary | 9/28/2005
This letter announces a series of one-day workshops on Fiscal Officer Training (FOT) for 2006. It also provides a link to the Federal Student Aid's registration system, where all workshops and locations are listed | 1/24/2006
This letter announces FSA's release of the second of three online, self-paced learning modules on EDExpress for 2006-07. This module, “Global Functions and Packaging” covers all the global functions of the EDExpress software as well as the Packaging Module | 3/1/2006
We are pleased to announce the release of the third of three online, self-paced learning modules on EDExpress for 2006-07. This module, “Pell Grant and Direct Loan Processing” covers all the Pell Grant Program and Direct Loan functions of the EDExpress software | 4/11/2006
This letter announces FSA's release of a new online, self-paced learning session for the Return of Title IV Funds (R2T4) on the Web Software. This session covers all aspects of using the R2T4 on the web software including setup, reporting and calculating refunds for all institutional program types | 4/24/2006
HERA Training Opportunities | 5/30/2006
HERA WEBINAR June 21, 2006 | 6/14/2006
This letter announces ADDITIONAL SPACE AVAILABLE for the Federal Student Aid's online, instructor-led training sessions to inform Financial Aid Administrators of the provisions of the Higher Education Reconciliation Act (P.L. 109-171) signed by the President on February 8, 2006 | 6/19/2006
HERA WEBINAR August 2, 2006 | 7/18/2006
Federal Student Aid Conferences | 8/18/2006
This letter announces a series of one-day workshops covering the provisions of the Higher Education Reconciliation Act, with a special focus on Academic Competitiveness Grants and National SMART Grants. This letter also includes a link to Federal Student Aid's “Training for Financial Aid Professionals” web page, where you can view the workshop schedule and register for the one that best meets your needs | 9/1/2006
Summary: We are pleased to announce that the 2006-07 edition of FSA COACH is now available at www.ed.gov/fsacoach. This self-paced online training course offers a comprehensive introduction to FSA management and has been updated to include HERA requirements | 10/12/2006
We are pleased to announce that the 2006-07 edition of FSA COACH for Foreign Schools is now available at http://www.ed.gov/offices/OSFAP/fsacoach/foreignschools/index.html. This self-paced online training course, based on the original FSA COACH for U.S. schools, offers foreign school personnel a comprehensive introduction to FFEL program management and has been updated to include HERA requirements | 11/20/2006
Tentative 2006-2007 Funding Levels for the Campus-Based Programs | 1/19/2006
Participation in the Work-Colleges Program | 2/8/2006
Use of State Scholarships and Grants as the Non-Federal Share of FSEOG Awards | 2/27/2006
2006-2007 Final Funding Authorizations for the Campus-Based Programs | 3/20/2006
2006-2007 Federal Work-Study Program Community Service Waiver Requests | 3/27/2006
Draft FISAP | 3/30/2006
2004-2005 Federal Perkins Loan Service Cancellation Reimbursement | 5/23/2006
Final FISAP | 6/19/2006
2005-2006 Campus-Based Reallocation Form and Process | 6/19/2006
Revised Assignment Form and Procedures for Assigning Perkins Loans | 8/1/2006
2006-2007 Supplemental Campus-Based Awards | 9/5/2006
New Process for Accessing the eCampus-Based System | 10/25/2006
FISAP Edit Corrections and Perkins Cash on Hand Update Due December 15, 2006 | 11/21/2006
Federal Family Education Loan (FFEL) Consolidation Loans | 3/17/2006
Special Allowance Payments for FFEL PLUS Loans | 6/5/2006
Update on ADvance Implementation Schedule | 2/15/2006
Correction to Dear Colleague Letter GEN-06-02, FP-06-01 | 3/14/2006
Academic Competitiveness Grant and National Science and Mathematics Access to Retain Talent (SMART) Grant Programs | 4/5/2006
This letter provides the list of academic majors eligible for the National SMART Grants for the 2006-07 award year | 5/2/2006
Additional Implementation Guidance—Academic Competitiveness Grant (ACG) and National Science and Mathematics Access to Retain Talent Grant (National SMART Grant) Programs | 5/3/2006
Implementing Provisions of the HERA for the 2006-2007 Award Year | 6/20/2006
National SMART Grant—Revised List of Eligible Majors | 8/25/2006
2007-08 Publication Update: Includes FAFSA and FAFSA on the Web Worksheet Information | 9/20/2006
Institutional Accreditation for Distance Learning Programs | 9/28/2006
Implementation of “Academic Year” Definition in the Academic Competitiveness Grant (ACG) and National SMART Grant Programs | 10/20/2006
The Third Higher Education Extension Act of 2006, Public Law 109-292 | 12/1/2006
2006-2007 Federal Pell Grant Payment and Disbursement Schedules | 1/11/2006
Reminder: Federal Student Aid's three-day “Financial Aid Basics” training will be delivered in five cities throughout 2007 | 1-19-207
This letter announces Federal Student Aid's 2007-08 online, instructor-led training sessions on our Return of Title IV Funds software. Topics covered include using the on-line R2T4 calculation software properly to calculate the return of Federal funds resulting from student withdrawals. This session includes the changes to the R2T4 calculation resulting from the Higher Education Reconciliation Act of 2006 | 2/26/2007
This letter announces Federal Student Aid's 2007-08 online, instructor-led training sessions on Applicant Data Resolution. Topics covered include resolving student application data rejects and using the Department's Web based systems to correct errors | 2/26/2007
Federal Student Aid's series of one-day workshops covering implementation of the ACG and National SMART Grant Training | 3/21/2007
Federal Student Aid's 2007-08 online, instructor-led training sessions on COD Basics: Resolving Issues with Title IV Grants | 4/11/2007
This letter announces FSA's release of the first of three online, self-paced learning modules on EDExpress for 2007-08. This first module covers FAA Access Menus and Navigation, Global functions, Packaging and Using EDconnect to transmit data | 4/27/2007
This letter announces FSA's release of the second of three online, self-paced learning modules on EDExpress for 2007-08. This module, Pell Origination and Disbursement, covers all the Pell functions of the EDExpress software | 4/27/2007
This letter announces ADDITIONAL SESSIONS AVAILABLE for the Federal Student Aid's 2007-08 online, instructor-led training sessions on COD Basics: Resolving Issues with Title IV Grants. The additional sessions will be available the afternoon of May 16 and May 17, 2007. All sessions will be conducted live through the Internet, which will allow you to participate without leaving your desk | 5/3/2007
This letter announces Federal Student Aid's on-line training opportunities on the FSA Assessments, the ISIR Analysis Tool, and the Quality Assurance Program | 5/2/2007
This letter announces Federal Student Aid's 2007-08 online, instructor-led training sessions on Applicant Data Resolution. Topics covered include resolving student application data rejects and using the Department's Web based systems to correct errors | 5/4/2007
Summary: This letter announces FSA's release of the third of three online, self-paced learning modules on EDExpress for 2007-08. This module, Direct Loan Processing, covers all Direct Loan functions of the EDExpress software | 5/22/2007
This letter announces additional sessions of Federal Student Aid's 2007-08 online, instructor-led training sessions on our Return of Title IV Funds software. Topics covered include using the on-line R2T4 calculation software properly to calculate the return of Federal funds resulting from student withdrawals. This session includes the changes to the R2T4 calculation resulting from the Higher Education Reconciliation Act of 2006 | 6/5/2007
This letter announces Federal Student Aid's online, instructor-led training sessions on National Student Loan Data System (NSLDS) Aggregate Loan Calculation. Topics covered include calculating Aggregate Loan limits using the NSLDS methodology and applying that information to student eligibility decisions. This session will also discuss loan types that impact aggregate limit calculations | 6/8/2007
This letter announces Federal Student Aid's online, instructor-led training sessions on the National Student Loan Data System (NSLDS). Topics covered include an overview of the system, how to make changes to student data, add users, how to read codes within the system as well as report overpayments and use the transfer monitoring function | 6/11/2007
This letter announces Federal Student Aid's online, instructor-led training sessions on Expected Family Contribution (EFC) Calculation training. Topics covered include calculating the expected family contribution using all three federal methodologies, the factors that affect the EFC and using professional judgment. This session will provide case study opportunities to calculate the EFC for a variety of students | 6/26/2007
This letter announces Federal Student Aid's online, instructor-led training sessions on the Fiscal Operations Report and Application to Participate (FISAP) form. Topics covered include essential information on each section of the FISAP, discussion on the most common errors in completing the FISAP and current changes to the FISAP. There will also be time for questions and answers | 7/23/2007
2007-08 Online, Instructor-Led Training Sessions on Improving Direct Loan Processing | 9/10/2007
ISIR Analysis Tool Training Session for Beginners available for viewing | 9/25/2007
This letter announces ADDITIONAL training sessions on National Student Loan Data System (NSLDS) Aggregate Loan Calculation using Federal Student Aid's Distance Education system | 10/22/2007
This letter announces ADDITIONAL training sessions on the National Student Loan Data System (NSLDS) using the Department's Distance Education system | 10/23/2007
This letter announces Federal Student Aid's Podcast of the recent 2007-2008 online, instructor-led training sessions on Applicant Data Resolution. Topics include resolving student application data rejects and using the Department's Web based systems to correct errors | 10/25/2007
Live Internet Briefings (Webinars) on new Title IV Student Assistance Legislation and Regulations | 11/15/2007
G5 Phase I Implementation Webinar | 11/15/2007
Recorded Internet Briefings (Webinars) on new Title IV Student Assistance Legislation and Regulations Now Available | 12/18/2007
Tentative 2007-2008 Funding Levels for the Campus-Based Programs | 1/17/2007
Participation in the Work-Colleges Program | 2/1/2007
2007-2008 Final Funding Authorizations for the Campus-Based Programs | 3/15/2007
2007-2008 Federal Work-Study Program Community Service Waiver Requests | 3/26/2007
Use of State Scholarships and Grants as the Non-Federal Share of FSEOG Awards | 3/4/2007
Draft FISAP and Instruction Booklet | 4/24/2007
2005-2006 Campus-Based Awards Closeout | 4/26/2007
FWS Community Service Requirements | 5/17/2007
2005-2006 Federal Perkins Loan Service Cancellation Reimbursement | 5/29/2007
New Federal Minimum Wage and the Federal Work-Study Program | 6/18/2007
FISAP Form/Instructions | 6/18/2007
2006-2007 Campus-Based Reallocation Form and Process | 7/5/2007
2007-2008 Supplemental Campus-Based Awards | 8/29/2007
FISAP Edit Corrections and Perkins Cash on Hand Update Due December 15, 2007 | 11/14/2007
Correction to Dear Colleague Letter FP-07-03 | 4/2/2007
Borrower Choice of FFEL Lender | 3/30/2007
2007-2008 Academic Competitiveness Grant (ACG) and National SMART Grant Award Amounts and Approved Majors | 4/27/2007
National SMART Grant—Revised List of Eligible Majors for Academic Year 2007-2008 | 9/24/2007
Enrollment Requirements for the National SMART Grant Program | 10/9/2007
Approval of Loan Discharge Application for Spouses and Parents of September 11, 2001 Victims | 11/9/2007
2007-2008 Federal Pell Grant Payment and Disbursement Schedules | 2/21/2007
Elimination of the Alternative Federal Pell Grant Payment and Disbursement Schedules | 10/12/2007
Training sessions on the National Student Loan Data System (NSLDS) using the Department's Distance Education system | 2/15/2008
Regulatory and Legislative Update—Spring, 2008 workshop series | 3/19/2008
TEACH Grant Implementation and Processing Webinar | 3/20/2008
2008-09 Online, Instructor-Training Sessions on Improving Direct Loan Processing | 3/31/2008
TEACH Grant Implementation and Processing Webinar Recording | 5/1/2008
Webinar Recording—2008-09 Online, Instructor-Training Sessions on Improving Direct Loan Processing | 5/19/2008
Live Internet Briefing (Webinar) on Title IV Federal Student Financial Assistance Program Changes | 6/9/2008
William D. Ford Federal Direct Loan (Direct Loan) Program Overview—Online, Instructor-Led Training | 6/9/2008
This letter announces FSA's release of the first of three online, self-paced learning modules on EDExpress Basics for 2008-09 | 8/8/2008
Webinar Recording—June 17, 2008 Live Internet Briefing (Webinar) on Title IV Federal Student Financial Assistance Program Changes | 8/11/2008
Webinar Recording—Online, Instructor-Led Training Session—William D. Ford Federal Direct Loan (Direct Loan) Program Overview | 8/15/2008
Live Internet Webinar on Fiscal Operations Report and Application to Participate (FISAP) | 9/3/2008
Financial Aid Basics workshops | 9/18/2008
Webinar Recording—Online, Instructor-Led Training Session— Fiscal Operations Report and Application to Participate (FISAP) | 9/29/2008
Tentative 2008-2009 Funding Levels for the Campus-Based Programs | 1/17/2008
Participation in the Work-Colleges Program | 1/29/2008
2008-2009 Final Funding Authorizations for the Campus-Based Programs | 3/18/2008
Draft FISAP and Instruction Booklet | 4/16/2008
Use of State Scholarships and Grants as the Non-Federal Share of FSEOG Awards for the 2007-2008 Award Year | 5/2/2008
2006-2007 Campus-Based Awards Closeout | 5/8/2008
2006-2007 Federal Perkins Loan Service Cancellation Reimbursement | 5/21/2008
FISAP Form/Instructions | 6/25/2008
2007-2008 Campus-Based Reallocation Form and Process | 6/25/2008
2008-2009 Supplemental Campus-Based Awards | 9/19/2008
FISAP Edit Corrections and Perkins Cash on Hand Update Due December 15, 2008 | 11/14/2008
Use of State Scholarships and Grants as the Non-Federal Share of FSEOG Awards for the 2008-2009 Award Year | 11/20/2008
Lender-of-Last-Resort Services in the Federal Family Education Loan Program | 4/14/2008
National SMART Grant—Request for Designation of Additional Eligible Majors | 2/6/2008
FFEL Lender-of-Last-Resort Loan Program | 5/6/2008
School Use of a Preferred Lender List in the FFEL Program | 5/9/2008
National SMART Grant Program—List of Eligible Majors for Academic Year 2008-2009 | 6/20/2008
Reminder of guidance for helping Title IV participants affected by a disaster | 6/24/2008
2008-2009 Federal Pell Grant Payment and Disbursement Schedules | 1/14/2008
Subject: EDExpress Basics—Final Release of EDExpress Basics for 2009-2010 | 10/13/2009
Subject: Reminder—Direct Loan Webinar Training Suite | 10/13/2009
Subject: Live Internet Webinar—FFEL, Direct Loan, and Perkins Loan Final Regulations | 10/30/2009
Subject: Live Internet Webinar—General Title IV and Non-Loan Programmatic Issues Final Regulations | 10/30/2009
Subject: Training Recording—Verification: A School Responsibility | 11/20/2009
Subject: Webinar Recording—FFEL, Direct Loan, and Perkins Loan Final Regulations | 12/15/2009
Subject: Webinar Recording—General Title IV and Non-Loan Programmatic Issues Final Regulations | 12/15/2009
Subject: Live Internet Webinar Series on Higher Education Opportunity Act (HEOA) | 2/5/2009
Subject: Live Internet Webinar on Direct Loan Processing for New Participants | 2/12/2009
Subject: Demonstration Recordings—Electronic Cohort Default Rate Appeals Release 2.1 Demonstration Sessions | 2/18/2009
Subject: Additional Classroom Space—March and April 2009 Live Internet Webinar Sessions on Direct Loan Processing for New Participants | 2/27/2009
Subject: FSA COACH—Redesign and 2008-2009 Update | 3/19/2009
Subject: Additional Classroom Space—March and April 2009 Live Internet Webinar Sessions on Direct Loan Processing for New Participants (Second Increase) | 3/19/2009
Subject: Live Internet Webinar—HEOA Changes to Pell Grant and TEACH Grant Programs and ECASLA Changes to ACG and National SMART Grant Programs | 4/20/2009
Subject: Live Internet Webinar—HEOA Changes to FFEL and Direct Loan Programs | 4/20/2009
Subject: Live Internet Town Hall Meeting—Higher Education Opportunity Act | 4/22/2009
Subject: EDExpress Basics—Release of First EDExpress Basics for 2009-2010 Module | 5/1/2009
Subject: Reminder—Live Internet Town Hall Meeting on Higher Education Opportunity Act | 5/12/2009
Subject: EDExpress Basics—Release of Second EDExpress Basics for 2009-2010 Module | 6/1/2009
Subject: Live Internet Webinar—Direct Loan Tools | 7/10/2009
Subject: Live Internet Webinar—Direct Loan Processing for EDExpress for Windows Users | 7/10/2009
Subject: EDExpress Basics—Release of Third EDExpress Basics for 2009-2010 Module | 7/13/2009
Subject: Webinar Recording—Direct Loan Processing for New Participants | 7/24/2009
Subject: Webinar Recording—HEOA Changes to FFEL and Direct Loan Programs | 7/24/2009
Subject: Town Hall Meeting Recording—Higher Education Opportunity Act | 7/24/2009
Subject: Live Internet Webinar—FFEL, Direct Loan, and Perkins Loan Notices of Proposed Rulemaking | 8/5/2009
Subject: Additional Session—Live Internet Webinar on Direct Loan Processing for New Participants in August 2009 | 8/5/2009
Subject: Training Workshops—Fundamentals of Title IV Administration | 8/5/2009
Subject: Additional Session—Live Internet Webinar on Direct Loan Processing for EDExpress for Windows Users in September 2009 | 8/18/2009
Subject: Training Recording—National Student Loan Data System (NSLDS) Aggregate Loan Calculation (Updated March 16, 2011) | 8/24/2009
Subject: Live Internet Webinar—Completing the FISAP | 8/27/2009
Subject: Live Internet Webinar—General Title IV and Non-Loan Programmatic Issues Notice of Proposed Rulemaking | 8/28/2009
Subject: Training Recording—Return of Title IV Funds (R2T4) Overview | 9/2/2009
Subject: Training Recording—Return of Title IV Funds (R2T4) on the Web | 9/2/2009
Subject: Demonstration Recordings—Electronic Cohort Default Rate Appeals 2.2 Demonstration Sessions | 9/18/2009
Subject: Training Recording—Pell Calculations for Clock-Hour Programs | 9/25/2009
Subject: Live Internet Webinars—Direct Loan Webinar Training Suite | 9/28/2009
Campus-Based Waivers and Reallocation Based on a Major 2008 Natural Disaster | 5/15/2009
Completion of Loan Verification Certificates | 4/3/2009
National SMART Grant—Designation of Additional Eligible Majors | 3/26/2009
National SMART Grant Program—List of Eligible Majors for Award Year 2009-2010 | 7/6/2009
Teaching in a high-need field in order to satisfy the TEACH Grant Program Agreement to Serve | 8/13/2009
Minor Prior Year Charges | 9/8/2009
2009-2010 Federal Pell Grant Payment and Disbursement Schedules | 2/20/2009
Subject: Webinar Recordings—Direct Loan Business Officer Training | 8/12/2010
Subject: EDExpress Online Training—Release of Third EDExpress Online Training for 2010-2011 Module | 8/13/2010
Subject: EDExpress Online Training—Final Release of EDExpress Online Training for 2010-2011 | 9/13/2010
Subject: Webinar Recording—Private Education Loan Disclosure Requirements | 9/15/2010
Subject: Training Recording—Completing the FISAP | 9/15/2010
Subject: Webinar Recording—Direct Loan Reconciliation | 10/26/2010
Subject: Live Internet Webinar—Default Prevention and Federal Student Loan Servicing Overview | 10/28/2010
Subject: Webinar Recordings—Foreign School Direct Loan Training | 10/29/2010
Subject: Webinar Recordings—Direct Loan Webinar Training Suite | 11/4/2010
Subject: Training Recording—Direct Loan Reconciliation | 12/6/2010
Subject: Live Internet Webinars—Direct Loan Webinar Training Suite | 1/11/2010
Subject: Live Internet Webinars—Year-Round Pell Grant Webinar for Term-Based Schools and Year-Round Pell Grant Webinar for Clock-Hour/Non-Term Schools | 1/21/2010
Subject: Reminder—Direct Loan Webinar Training Suite | 1/21/2010
Subject: FSA COACH—2009-2010 Update | 2/4/2010
Subject: Live Internet Webinars—Direct Loan Webinars for Graduate/Professional Schools | 2/17/2010
Subject: Live Internet Webinar—DUNS Number and TIN Registration with Central Contractor Registration Database By March 31, 2010 | 2/25/2010
Subject: Demonstration Recordings—Electronic Cohort Default Rate Appeals 3.0 Demonstration Sessions | 3/5/2010
Subject: Live Internet Webinars—Direct Loan Business Officer Training | 3/5/2010
Subject: Live Internet Webinars—Additional Year-Round Pell Grant Webinar for Term-Based Schools and Year-Round Pell Grant Webinar for Clock-Hour/Non-Term Schools | 3/16/2010
Subject: Live Internet Town Hall Meeting—Year-Round Pell Grant Q & A | 3/25/2010
Subject: Podcasts—FSA Assessments | 3/30/2010
Subject: Live Internet Webinars—Direct Loan Webinar Training Suite | 4/5/2010
Subject: Training Recording—Using EDExpress to Process Direct Loans | 4/26/2010
Subject: Live Internet Webinar—What's New for Direct Loans | 4/28/2010
Subject: Live Internet Webinars—Direct Loan Webinars for Graduate/Professional Schools | 4/29/2010
Subject: Training Workshops—Direct Loan Training for Foreign Schools | 4/30/2010
Subject: Training Recording—Professional Judgment, Session One: An Overview | 5/5/2010
Subject: Additional Sessions—Live Internet Webinar on What's New for Direct Loans | 5/14/2010
Subject: Live Internet Webinar—Using EDExpress to Process Direct Loans | 5/14/2010
Subject: EDExpress Online Training—Release of First EDExpress Online Training for 2010-2011 Module | 5/24/2010
Subject: Webinar Recordings—Year-Round Pell Grant Webinar for Term-Based Schools and Year-Round Pell Grant Webinar for Clock-Hour/Non-Term Schools | 5/25/2010
Subject: Live Internet Webinar—Direct Loan Questions and Answers | 5/25/2010
Subject: Live Internet Webinars—Direct Loan Webinar Training Suite | 6/1/2010
Subject: Reminder—Live Internet Webinars on Direct Loans for Graduate/Professional Schools | 6/15/2010
Subject: Live Internet Webinar—Using EDExpress to Process Direct Loans | 6/16/2010
Subject: Reminder—Direct Loan Webinar Training Suite | 6/24/2010
Subject: Live Internet Webinar—Program Integrity Notice of Proposed Rulemaking | 7/9/2010
Subject: EDExpress Online Training—Release of Second EDExpress Online Training for 2010-2011 Module | 7/27/2010
Subject: Training Workshops—Fundamentals of Title IV Administration | 8/2/2010
Subject: Live Internet Webinars—Foreign School Direct Loan Training | 8/3/2010
Subject: Live Internet Webinar—Private Education Loan Disclosure Requirements | 8/10/2010
General guidance for accrediting agencies and institutions on the treatment of campuses of Title IV-eligible institutions that have been determined to qualify for independent accreditation | 2/25/2010
National SMART Grant—Designation of Additional Eligible Majors | 4/2/2010
Support for Schools Transitioning to Direct Loans | 4/20/2010
Implementation Guidance for the Deadline for Making Loans under the FFEL Program | 6/16/2010
National SMART Grant Program—List of Eligible Majors for Award Year 2010-2011 | 6/18/2010
Temporary Authority for the Consolidation of Loans in an In-School Status | 6/29/2010
2010-2011 Federal Pell Grant Payment and Disbursement Schedules | 01/13/210
REVISED 2010-2011 Federal Pell Grant Payment and Disbursement Schedules | 4/8/2010
Subject: Training Workshops—Regulatory Update 2011 | 1/28/2011
Subject: Webinar Recording—Default Prevention and Federal Student Loan Servicing Overview | 2/1/2011
Subject: Additional Sessions—Training Sites Added in Tennessee, Arizona, and Colorado for Regulatory Update 2011 Training Workshops | 2/10/2011
Subject: Additional Sessions—Training Sessions Added in New York, Kansas City, and Boston for Regulatory Update 2011 Training Workshops | 2/15/2011
Subject: FSA COACH—2010-2011 Update | 2/6/2011
Subject: Training Workshops—Participant Materials Now Available for Regulatory Update 2011 Training Workshops | 2/17/2011
Subject: EDExpress Online Training—Release of First EDExpress Online Training for 2011-2012 Module | 3/21/2011
Subject: EDExpress Online Training—Release of Second EDExpress Online Training for 2011-2012 Module | 4/8/2011
Subject: Training Workshops—Cancellation of Certain Regulatory Update 2011 Workshops Due to the Potential Government Closure | 4/8/2011
Subject: Live Internet Webinars—Regulatory Update 2011 | 4/20/2011
Subject: Live Internet Webinar—Implementation of the Reporting and Disclosure Requirements of the October 29, 2010 Final Regulations Related to Gainful Employment Programs | 5/5/2011
Subject: Training Recording—Professional Judgment, Session Two | 5/16/2011
Subject: Live Internet Webinar—COD and StudentLoans.gov Enhancements for 2011-2012 Direct Loan Processing | 6/3/2011
Subject: Live Internet Webinar—Reporting Gainful Employment Data to NSLDS | 6/13/2011
Subject: EDExpress Online Training—Release of Third EDExpress Online Training for 2011-2012 Module | 6/13/2011
Subject: EDExpress Online Training—Release of Direct Loan Tools Online Training Module | 8/1/2011
Subject: Training Workshops—Fundamentals of Title IV Administration | 8/1/2011
Subject: Training Recording—Completing the FISAP | 8/23/2011
Subject: Live Internet Webinar—Adding a New Gainful Employment Program | 9/7/2011
Subject: Live Internet Webinar—Additional Information on the NSLDS Gainful Employment Reporting Process | 9/19/2011
Subject: EDExpress Online Training—Release of 508-Compliant Versions of EDExpress Online Training for 2011-2012 and Direct Loan Tools Online Training | 9/26/2011
Subject: Live Internet Webinar—Direct Loans, COD, and StudentLoans.gov for 2011-2012 | 10/3/2011
Subject: Additional Session—Session Added for NSLDS Gainful Employment Reporting Process Webinar | 10/4/2011
Subject: Live Internet Webinars—Business Officer Training | 10/6/2011
Subject: Live Internet Webinar—Direct Loan Reports | 10/17/2011
Subject: Additional Sessions—Live Internet Webinar on Direct Loans, COD, and StudentLoans.gov for 2011-2012 | 10/25/2011
Subject: Live Internet Webinar—Direct Loan Primers | 10/27/2011
Subject: Webinar Recordings—Direct Loan Reports and Direct Loan Primer | 12/12/2011
Subject: Live Internet Webinar—Gainful Employment Data Corrections | 12/21/2011
Status of the Federal Perkins Loan Program | 2/17/2011
Enhancements to the FAFSA-IRS Data Retrieval Process | 2/23/2011
Guidance to Institutions and Accrediting Agencies Regarding a Credit Hour as Defined in the Final Regulations Published on October 29, 2010 | 3/18/2011
Guidance on Students Enrolled in Study-Abroad Programs in Japan | 3/29/2011
Implementation of Regulatory Requirements Related to Gainful Employment Programs | 4/20/2011
AMENDED—State authorization under the Program Integrity Regulations | 4/20/2011
2012-2013 Award Year: FAFSA Information to be Verified, and Acceptable Documentation | 7/13/2011
Implementation of Program Integrity regulations | 7/20/2011
Expected Family Contributions of 99,999 | 12/6/2011
2011-2012 Federal Pell Grant Payment and Disbursement Schedules | 2/1/2011
Impact of the Department of Defense and Full-Year Continuing Appropriations Act, 2011 on the Federal Pell Grant Program | 4/27/2011
Subject: Reminder—Live Internet Webinar on Gainful Employment Data Corrections | 1/6/2012
Subject: Training Recording—Return of Title IV Funds (R2T4) | 1/11/2012
Subject: Live Internet Webinar—Calculation of Gainful Employment Debt Measures and Implications for Institutions | 2/8/2012
Subject: Live Internet Webinar—COD System and Direct Loan Update | 2/9/2012
Subject: Live Internet Webinar—Business Officer Training Q & A | 2/14/2012
Subject: Webinar Recording—Business Officer Training Q & A | 3/21/2012
Subject: Training Recording—Direct Loan Reconciliation (Interactive) | 3/22/2012
Subject: Live Internet Webinar—Direct Loan Reconciliation and Program Year Closeout: Start to Finish | 3/26/2012
Subject: Live Internet Webinars—Delinquency and Default Management Webinar Conference | 4/13/2012
Subject: Live Internet Webinar—Gainful Employment: How to Read Your GE Back-Up Detail Report | 5/2/2012
Subject: Live Internet Webinar—Direct Loan Tools | 5/30/2012
Subject: Live Internet Webinar—Direct Loan Reconciliation and Program Year Closeout for Hispanic-Serving Institutions | 6/1/2012
Subject: Live Internet Webinar—COD System Update—July 2012 Enhancements | 6/7/2012
Subject: Webinar Recording—Direct Loan Reconciliation and Program Year Closeout: Start to Finish | 6/19/2012
Subject: Live Internet Webinar—Gainful Employment: Just Released Rates | 6/25/2012
Subject: Webinar Recording—Direct Loan Tools | 6/27/2012
Subject: Live Internet Webinar—Gainful Employment: How to Read Your GE Back-Up Detail Report—Question and Answer Session | 6/28/2012
Subject: Webinar Recordings—Delinquency and Default Management Webinar Conference | 7/2/2012
Subject: Training Recording—2012-2013 EDExpress Updates for Release 1.0 | 7/18/2012
Subject: Training Recording—Completing the FISAP | 8/27/2012
Subject: Live Internet Webinars—2012 Fall Webinar Training Series | 9/7/2012
Subject: Training Workshops—Fundamentals of Federal Student Aid Administration (Updated September 14, 2012) | 9/10/2012
Subject: Training Recording—2012-2013 EDExpress Updates for Release 2.0 | 9/24/2012
Subject: Reminder—Live Internet Webinars—2012 Fall Webinar Training Series | 10/9/2012
Subject: FSA COACH—2012-2013 Update | 10/10/2012
Subject: Live Internet Webinar—Gainful Employment Webinar #10: Understanding the NSLDS Corrections Functionality | 12/10/2012
Subject: Webinar Recordings—2012 Fall Webinar Training Series | 12/4/2012
Loan Verification Certificate for Special Direct Consolidation Loans | 1/20/2012
NSLDS Enrollment Reporting Process | 3/30/2012
Title IV Eligibility for Students Without a Valid High School Diploma | 12/6/2012
2013-2014 Award Year: FAFSA Information to be Verified and Acceptable Documentation | 7/17/2012
Financial Aid Shopping Sheet for 2013-14 | 7/25/2012
Charges Incurred at Bookstores | 11/28/2012
2012-2013 Federal Pell Grant Payment and Disbursement Schedules | 1/12/2012
Subject: Reminder—Training Workshops—Fundamentals of Federal Student Aid Administration | 1/7/2013
Subject: Live Internet Webinar—COD System Update: 2013-2014 New Award Year Setup | 3/4/2013
Subject: Live Internet Webinar—Software Developers Webinar May 2013 | 5/2/2013
Subject: Live Internet Webinar—COD Reporting of Academic Year and Loan Period | 5/22/2013
Subject: Live Internet Webinar—150% Direct Subsidized Loan Time Limit | 5/22/2013
Subject: Training Resource—The New Federal Student Aid E-Training Web Site | 6/17/2013
Subject: EDExpress Online Training—EDExpress Release 1.0 Online Training for 2013-2014 | 6/24/2013
Subject: Webinar Recordings—COD Reporting of Academic Year and Loan Period and 150% Direct Subsidized Loan Time Limit | 7/5/2013
Subject: Live Internet Webinar—Software Developers Conference | 7/18/2013
Subject: Training Recording—Completing the FISAP | 8/16/2013
Subject: Webinar Recording—Software Developers Webinar May 2013 | 8/21/2013
Subject: Webinar Recording—Software Developers Conference August 2013 | 9/3/2013
Subject: Training Workshops—Fundamentals of Federal Student Aid Administration | 9/20/2013
Subject: Live Internet Webinar—150% Direct Subsidized Loan Limit Webinar #3: Review of Basics and Implementation Update | 9/26/2013
Subject: EDExpress Online Training—EDExpress Release 2.0 Online Training for 2013-2014 | 10/22/2013
Subject: Rescheduled—Live Internet Webinar—150% Direct Subsidized Loan Limit Webinar #3: Review of Basics and Implementation Update | 10/24/2013
Subject: Live Internet Webinar—Default Aversion and Management | 11/7/2013
Subject: Training Resource—90/10 Regulation and Calculation Presentation Materials | 11/7/2013
Subject: Live Internet Webinar—Software Developers December 2013 Webinar | 11/13/2013
Subject: Webinar Recording—150% Direct Subsidized Loan Limit Webinar #3: Review of Basics and Implementation Update | 12/9/2013
Subject: FSA COACH—2013-2014 Update for Domestic Schools | 12/30/2013
Dear Colleague Letters Issued Under GEN and ANN Types Beginning January 2013 | 1/14/2013
Invitation to Participate in Experiments Under the Experimental Sites Initiative | 1/17/2013
2013-2014 Federal Pell Grant Payment and Disbursement Schedules | 1/30/2013
Extension of Invitation to Participate in the Experimental Sites Initiative | 2/27/2013
Renewal of Private Education Loan Applicant Self-Certification Form (Updated June 21, 2013) | 6/12/2013
2014-2015 Award Year: FAFSA Information to be Verified and Acceptable Documentation | 6/13/2013
Invitation to Participate in the Experimental Sites Initiative | 8/9/2013
FY 2014 Sequestration Changes to the Title IV Student Aid Programs (Updated October 25, 2013) | 10/17/2013
Experimental Sites Initiative—Solicitation of Ideas | 12/4/2013
2014-2015 Financial Aid Shopping Sheet | 12/13/2013
IMPORTANT UPDATE: Change to FY 2014 Sequestration-Required Reduction for TEACH Grant | 12/23/2013
Subject: Webinar Recording—Software Developers December 2013 Webinar | 1/6/2014
Subject: Webinar Recording—Default Aversion and Management | 1/8/2014
Subject: Live Internet Webinar—New Direct Consolidation Loan Process | 2/20/2014
Subject: Online Training Module—Default Aversion and Management | 2/24/2014
Subject: FSA COACH—2013-2014 Update for Foreign Schools | 2/28/2014
Subject: Rescheduled—Live Internet Webinar—New Direct Consolidation Loan Process | 3/14/2014
Subject: Live Internet Webinar—COD System Update: 2014-2015 New Award Year Setup | 3/19/2014
Subject: Webinar Recording—New Direct Consolidation Loan Process | 4/3/2014
Subject: Online Training Module—Satisfactory Academic Progress | 4/21/2014
Subject: Live Internet Webinar—Software Developers June 2014 Webinar | 5/14/2014
Subject: FSA Coach—2014-2015 Update | 5/30/2014
Subject: EDExpress Online Training—EDExpress Release 1.0 Online Training for 2014-2015 | 6/6/2014
Subject: Live Internet Webinars—150% Direct Subsidized Loan Limit Webinar #4 and Webinar #5: New NSLDS Program-Level Enrollment Reporting Requirements | 6/27/2014
Subject: Webinar Recording—Software Developers June 2014 Webinar | 7/22/2014
Subject: Online Training Module—Consumer Information | 7/25/2014
Subject: Webinar Recordings—150% Direct Subsidized Loan Limit Webinar #4 and Webinar #5: New NSLDS Program-Level Enrollment Reporting Requirements | 8/7/2014
Subject: Live Internet—Webinar—Experimental Sites Initiative (ESI) Experiments | 8/8/2014
Subject: Online Training Module—Completing the 2015-2016 FISAP | 8/14/2014
Subject: Online Training Module—Institutional Eligibility | 8/18/2014
Subject: Training Workshops—Fundamentals of Federal Student Aid Administration | 8/19/2014
Subject: EDExpress Online Training—EDExpress Release 2.0 Online Training for 2014-2015 | 8/26/2014
Subject: Webinar Recording—Experimental Sites Initiative (ESI) Experiments | 8/29/2014
Subject: Online Training Module—Default Prevention and Management | 9/29/2014
Subject: EDExpress Online Training—EDExpress Release 3.0 Online Training for 2014-2015 | 10/14/2014
Subject: Live Internet Webinar—Software Developers January 2015 Webinar (Updated December 17, 2014) | 12/10/2014
Subject: Online Training Module—Return of Title IV Funds | 12/11/2014
Subject: Live Internet Webinar—Gainful Employment: Reporting Data to NSLDS | 12/16/2014
2014-2015 Federal Pell Grant Payment and Disbursement Schedules | 1/31/2014
Military Service and Post-Active Duty Student Deferment Request; deadline extension for implementing | 1/31/2014
IRS Tax Return Transcript Processes for 2014-2015 | 3/24/2014
Recognized Equivalent of a High School Diploma | 4/11/2014
Revised Income-Driven Repayment Plan Request Form | 4/18/2014
FY 2015 Sequester Required Changes | 5/2/2014
2015-2016 Award Year: FAFSA® Information to be Verified and Acceptable Documentation | 6/30/2014
Revised Direct Loan and FFEL Program Discharge Forms | 10/8/2014
Revised Teacher Loan Forgiveness Application and Teacher Loan Forgiveness Forbearance Request forms | 10/8/2014
Competency-Based Education Programs—Q&A | 12/19/2014
Subject: Webinar Recording—Gainful Employment: Reporting Data to NSLDS | 1/23/2015
Subject: Webinar Recording—Software Developers January 2015 Webinar | 2/3/2015
Subject: Live Internet Webinar—Implementation of Regulatory Changes to the Adverse Credit History Provisions of the Direct PLUS Loan Program (Updated February 16, 2015) | 2/6/2015
Subject: Rescheduled—Live Internet Webinar—Implementation of Regulatory Changes to the Adverse Credit History Provisions of the Direct PLUS Loan Program | 2/18/2015
Subject: Live Internet Webinar—COD System Update: 2015-2016 New Award Year Setup | 2/23/2015
Subject: Webinar Recording—Implementation of Regulatory Changes to the Adverse Credit History Provisions of the Direct PLUS Loan Program | 3/23/2015
Subject: EDExpress Online Training—EDExpress Release 1.0 Online Training for 2015-2016 | 4/8/2015
Subject: Webinar Recording—COD System Update: 2015-2016 New Award Year Setup | 4/28/2015
Subject: Training Workshops—Fundamentals of Federal Student Aid Administration | 7/1/2015
Subject: EDExpress Online Training—EDExpress Release 2.0 Online Training for 2015-2016 | 7/13/2015
Subject: Live Internet Webinar—Software Developers August 2015 Webinar | 7/17/2015
Subject: Online Training Module—Completing the 2016-2017 FISAP | 8/14/2015
Subject: Webinar Recording—Software Developers August 2015 Webinar | 9/2/2015
Subject: FSA Coach—2015-2016 Basic Training for Domestic and Foreign Schools | 9/8/2015
Subject: Live Internet Webinar—Protecting Student Information: IT Security Best Business Practices | 10/7/2015
Subject: Live Internet Webinars—Gainful Employment: Interpreting the GE Completers List and How to Submit a Challenge to the GE Completers List | 11/3/2015
Subject: Webinar Recordings—Gainful Employment: Interpreting the GE Completers List and How to Submit a Challenge to the GE Completers List | 11/30/2015
Subject: Webinar Recording—Protecting Student Information: IT Security Best Business Practices | 12/7/2015
Subject: Live Internet Webinar—Verification and Unusual Enrollment History | 12/30/2015
Subject: Live Internet Webinar—Experimental Sites Initiative: Dual Enrollment Experiment | 12/30/2015
2015-2016 Federal Pell Grant Payment and Disbursement Schedules | 1/29/2015
FY 2016 Sequester Required Changes to the Title IV Student Aid Programs | 4/23/2015
Title IV Eligibility for Students Without a Valid High School Diploma Who Are Enrolled in Eligible Career Pathway Programs | 5/22/2015
State Authorization Regulations Effective Date July 1, 2015 | 6/19/2015
2016-2017 Award Year: FAFSA® Information to be Verified and Acceptable Documentation | 6/29/2015
Regulatory Requirements Related to GE Programs | 6/30/2015
Repayment Agreements and Liability for Collection Costs on FFELP Loans | 7/10/2015
Protecting Student Information | 7/29/2015
Direct Loan and FFEL Program Reaffirmation Agreement | 10/19/2015
OMB Approval of Federal Perkins Loan Program MPN | 11/12/2015
Clarifies flexibility for accrediting agencies | 11/5/2015
Outlines previous Administration's accreditation agenda | 11/1/2015
Subject: FSA Coach—2015-2016 Intermediate Training Course | 1/21/2016
Subject: Live Internet Webinar—Cash Management Regulations | 1/27/2016
Subject: Training Workshops—Regional Drive-In Workshop Series | 2/8/2016
Subject: Webinar Recording—Cash Management Regulations | 2/18/2016
Subject: Webinar Recording—Verification and Unusual Enrollment History | 2/18/2016
Subject: Live Internet Webinar—Software Developers March 2016 Webinar | 3/3/2016
Subject: Online Training Modules—FSA Quick Takes | 4/22/2016
Subject: Webinar Recording—Software Developers March 2016 Webinar | 4/29/2016
Subject: Live Internet Webinars—Gainful Employment: Reading Your Draft GE Completers List Files and Submitting GE Completers List Corrections | 5/13/2016
Subject: Webinar Recording—Gainful Employment: Reading Your Draft GE Completers List Files | 6/13/2016
Subject: Webinar Recording—Gainful Employment: Submitting GE Completers List Corrections | 6/22/2016
Subject: Training Workshops—Fundamentals of Federal Student Aid Administration | 7/1/2016
Subject: Online Training Module—Completing the 2017-2018 FISAP | 8/24/2016
Subject: Live Internet Webinars—Gainful Employment: Reading Your Draft GE Debt-to-Earnings (D/E) Rates Files and Submitting Challenges | 9/26/2016
Live Internet Webinar—Software Developers November 2016 Webinar | 10/17/2016
Subject: Webinar Recording—Gainful Employment: Reading Your Draft GE Debt-to-Earnings (D/E) Rates Files | 11/2/2016
Subject: Webinar Recording—Gainful Employment: Submitting Draft GE Debt-to-Earnings (D/E) Challenges | 11/3/2016
Subject: FSA Coach—2016-2017 Basic Training for Domestic Schools | 11/14/2016
2016-2017 Federal Pell Grant Payment and Disbursement Schedules | 1/29/2016
Approval of Deferment and Mandatory Forbearance Request Forms for the Direct Loan, FFEL, and Perkins Loan Programs | 1/29/2016
Approval of General Forbearance Request Form for the Direct Loan, FFEL, and Perkins Loan Programs | 3/11/2016
2017-2018 Award Year: FAFSA® Information to be Verified and Acceptable Documentation | 4/5/2016
Changes to Title IV Eligibility for Students Without a Valid High School Diploma Who Are Enrolled in Eligible Career Pathway Programs | 5/9/2016
FY 2017 Sequester Required Changes to the Title IV Student Aid Programs | 5/31/2016
2017-2018 Early FAFSA—Identification and Resolution of Conflicting Information | 8/3/2016
Revision of the Income-Driven Repayment Plan Request Form for the Direct Loan and FFEL Programs | 10/11/2016
2017-2018 Federal Pell Grant Payment and Disbursement Schedules | 10/18/2016
Encouraging information-sharing between the Department and accrediting agencies; encouraging accrediting agencies to avail themselves of risk-based reviews | 1/20/2016
Clarifies and encourages use of flexibility for differentiated reviews by accrediting agencies | 4/22/2016
Outlines previous Administration's accreditation agenda | 2/1/2016
Subject: FSA Coach—2016-2017 Intermediate Training Course | 1/5/2017
Subject: FSA Coach—2016-2017 Basic Training for Foreign Schools | 2/28/2017
Subject: Training Workshops—Fundamentals of Federal Student Aid Administration | 6/1/2017
Subject: Live Internet Webinar—EDESuite Software Upgrades for 2018-2019 and Beyond | 6/6/2017
Subject: Webinar Recording—EDESuite Software Upgrades for 2018-2019 and Beyond | 7/19/2017
Subject: Online Training Module—Completing the 2018-2019 FISAP | 8/2/2017
Subject: FSA Coach—2017-2018 Advanced Training Course | 8/7/2017
Subject: Live Internet Webinar—Software Developers September 2017 Webinar | 8/18/2017
Subject: Live Internet Webinar—COD System Update | 8/18/2017
Subject: FSA Coach—2017-18 Basic Training for Domestic Schools | 12/5/2017
Withdrawal of Dear Colleague Letter 15-14 | 3/16/2017
Revision of the Military Service and Post-Active Duty Student Deferment Request | 4/17/2017
Subject: 2018-2019 Award Year: FAFSA® Information to be Verified and Acceptable Documentation | 5/25/2017
Outlines categories of terminology used by accrediting agencies to describe actions and statuses, and provides guidance to federally recognized accrediting agencies | 11/16/2016
Announces forthcoming guidance on information-sharing and transparency | 1/11/2017
Subject: FSA Coach—2017-18 Basic Training for Foreign Schools | 2/7/2018
Subject: Live Internet Webinar—Correcting Reported Gainful Employment Data in NSLDS | 2/9/2018
Subject: Live Internet Webinar—The FISAP in the COD System | 2/20/2018
Subject: Webinar Recording—Correcting Reported Gainful Employment Data in NSLDS | 3/13/2018
Subject: FSA Coach—2017-18 Intermediate Training Course | 3/14/2018
Subject: Webinar Recording—The FISAP in the COD System | 3/22/2018
Subject: Live Internet Webinar—Submitting Draft GE Completers List Corrections in NSLDS | 4/17/2018
Subject: Webinar Recording—Submitting Draft GE Completers List Corrections in NSLDS | 5/25/2018
Subject: Training Workshops—Fundamentals of Federal Student Aid Administration | 7/2/2018
Subject: Online Training Module—Completing the 2019-2020 FISAP | 8/1/2018
Subject: 2018-2019 Federal Pell Grant Payment and Disbursement Schedules | 1/31/2018
Subject: Modifications to the Campus-Based Programs for institutions and students affected by Hurricanes or Tropical Storms Harvey, Irma, and Maria | 3/26/2018
Subject: REVISED 2018-2019 Federal Pell Grant Payment and Disbursement Schedules | 4/10/2018
Subject: Training Resource—Upcoming Change to Federal Student Aid E-Training Web Address | 4/2/2019
Subject: Live Internet Webinar—How to Correct Historical Enrollment Reporting in NSLDS | 5/20/2019
Subject: Webinar Recording—How to Correct Historical Enrollment Reporting in NSLDS | 6/19/2019
Subject: Online Training Module—Completing the 2020-2021 FISAP | 8/8/2019
Subject: Online Training Resource—Financial Aid Administrator's Tool Kit | 9/10/2019
Subject: Online Training Module—Next Gen First Time Login to StudentAid.gov | 12/20/2019

[FR Doc. 2020-19144 Filed 8-26-20; 4:15 pm]

BILLING CODE 4000-01-P